DEPARTMENT OF COMMERCE

National Oceanic and Atmospheric Administration

50 CFR Part 229

[Docket No. 240208-0041]

RIN 0648-BM19

List of Fisheries for 2024

AGENCY: National Marine Fisheries Service (NMFS), National Oceanic and Atmospheric Administration (NOAA), Commerce.

ACTION: Final rule.

SUMMARY: NMFS is publishing its final List of Fisheries (LOF) for 2024, as required by the Marine Mammal Protection Act (MMPA). The LOF for 2024 reflects new information on interactions between commercial fisheries and marine mammals. NMFS must classify each commercial fishery on the LOF into one of three categories under the MMPA based on the level of mortality and serious injury of marine mammals that occurs incidental to each fishery. The classification of a fishery on the LOF determines whether participants in that fishery are subject to certain provisions of the MMPA, such as those on registration, observer coverage, and take reduction plan (TRP) requirements.

DATES: This rule is effective March 18, 2024.

ADDRESSES: Chief, Marine Mammal and Sea Turtle Conservation Division, Office of Protected Resources, NMFS, 1315 East-West Highway, Silver Spring, MD 20910.

FOR FURTHER INFORMATION CONTACT: Jaclyn Taylor, Office of Protected Resources, 301-427-8402; Cheryl Cross, Greater Atlantic Region, 978-281-9100; Jessica Powell, Southeast Region, 727-824-5312; Dan Lawson, West Coast Region, 206-526-4740; Suzie Teerlink, Alaska Region, 907-586-7240; Elena Duke, Pacific Islands Region, 808-725-5085. Individuals who use a telecommunications device for the hearing impaired may call the Federal Information Relay Service at 1-800-877-8339 between 8 a.m. and 4 p.m. Eastern time, Monday through Friday, excluding Federal holidays.

SUPPLEMENTARY INFORMATION:

What is the List of Fisheries?

Section 118 of the MMPA requires NMFS to place all U.S. commercial fisheries into one of three categories based on the level of incidental mortality and serious injury of marine mammals occurring in each fishery (16 U.S.C. 1387(c)(1)). The classification of a fishery on the LOF determines whether participants in that fishery may be required to comply with certain provisions of the MMPA, such as those on registration, observer coverage, and take reduction plan requirements. NMFS must reexamine the LOF annually, considering new information in the Marine Mammal Stock Assessment Reports (SARs) and other relevant sources, and publish in the Federal Register any necessary changes to the LOF after notice and opportunity for public comment (16 U.S.C. 1387 (c)(1)(C)).

How does NMFS determine in which category a fishery is placed?

The definitions for the fishery classification criteria can be found in the implementing regulations for section 118 of the MMPA (50 CFR 229.2). The criteria are also summarized here.

Fishery Classification Criteria

The fishery classification criteria consist of a two-tiered, stock-specific approach that first addresses the total impact of all fisheries on each marine mammal stock and then addresses the impact of individual fisheries on each stock. This approach is based on consideration of the rate, in numbers of animals per year, of incidental mortalities and serious injuries of marine mammals due to commercial fishing operations relative to the potential biological removal (PBR) level for each marine mammal stock. The MMPA (16 U.S.C. 1362 (20)) defines the PBR level as the maximum number of animals, not including natural mortalities, that may be removed from a marine mammal stock, while allowing that stock to reach or maintain its optimum sustainable population. This definition can also be found in the implementing regulations for section 118 of the MMPA (50 CFR 229.2).

Tier 1: Tier 1 considers the cumulative fishery mortality and serious injury for a particular stock. If the total annual mortality and serious injury of a marine mammal stock across all fisheries is less than or equal to 10 percent of the PBR level of the stock, all fisheries interacting with the stock will be placed in Category III (unless those fisheries interact with other stock(s) for which total annual mortality and serious injury is greater than 10 percent of PBR). Otherwise, these fisheries are subject to the next tier of analysis (Tier 2) to determine their classification.

Tier 2: Tier 2 considers fishery-specific mortality and serious injury for a particular stock.

Category I: Annual mortality and serious injury of a stock in a given fishery is greater than or equal to 50 percent of the PBR level (i.e., frequent incidental mortality and serious injury of marine mammals).

Category II: Annual mortality and serious injury of a stock in a given fishery is greater than 1 percent and less than 50 percent of the PBR level (i.e., occasional incidental mortality and serious injury of marine mammals).

Category III: Annual mortality and serious injury of a stock in a given fishery is less than or equal to 1 percent of the PBR level (i.e., a remote likelihood of or no known incidental mortality and serious injury of marine mammals).

Additional details regarding how the categories were determined are provided in the preamble to the final rule implementing section 118 of the MMPA (60 FR 45086, August 30, 1995).

Because fisheries are classified on a per-stock basis, a fishery may qualify as one category for one marine mammal stock and another category for a different marine mammal stock. A fishery is typically classified on the LOF at its highest level of classification (e.g., a fishery qualifying for Category III for one marine mammal stock and for Category II for another marine mammal stock will be listed under Category II). Stocks driving a fishery's classification are denoted with a superscript “1” in tables 1 and 2.

Other Criteria That May Be Considered

The tier analysis requires a minimum amount of data, and NMFS does not have sufficient data to perform a tier analysis on certain fisheries. Therefore, NMFS has classified certain fisheries by analogy to other fisheries that use similar fishing techniques or gear that are known to cause mortality or serious injury of marine mammals, or according to factors discussed in the final LOF for 1996 (60 FR 67063, December 28, 1995) and listed in the regulatory definition of a Category II fishery. In the absence of reliable information indicating the frequency of incidental mortality and serious injury of marine mammals by a commercial fishery, NMFS will determine whether the incidental mortality or serious injury is “occasional” by evaluating other factors such as fishing techniques, gear used, methods used to deter marine mammals, target species, seasons and areas fished, qualitative data from logbooks or fishermen reports, stranding data, and the species and distribution of marine mammals in the area, or at the discretion of the Assistant Administrator for Fisheries (50 CFR 229.2).

Further, eligible commercial fisheries not specifically identified on the LOF are deemed to be Category II fisheries until the next LOF is published (50 CFR 229.2).

How does NMFS determine which species or stocks are included as incidentally killed or injured in a fishery?

The LOF includes a list of marine mammal species and/or stocks incidentally killed or injured in each commercial fishery. The list of species and/or stocks incidentally killed or injured includes “serious” and “non-serious” documented injuries as described later in the List of Species and/or Stocks Incidentally Killed or Injured in the Pacific Ocean and List of Species and/or Stocks Incidentally Killed or Injured in the Atlantic Ocean, Gulf of Mexico, and Caribbean sections. To determine which species or stocks are included as incidentally killed or injured in a fishery, NMFS annually reviews the information presented in the current SARs and injury determination reports. SARs are brief reports summarizing the status of each stock of marine mammals occurring in waters under U.S. jurisdiction. Information includes the identity and geographic range of the stock, population statistics related to abundance, trend, and annual productivity, notable habitat concerns, and estimates of human-caused mortality and serious injury (M/SI) by source. The SARs are based upon the best available scientific information and provide the most current and inclusive information on each stock's PBR level and level of interaction with commercial fishing operations. The best available scientific information used in the SARs and reviewed for the 2024 LOF generally summarizes data from 2016-2020. NMFS also reviews other sources of new information, including injury determination reports, bycatch estimation reports, observer data, logbook data, stranding data, disentanglement network data, fishermen self-reports (i.e., MMPA mortality/injury reports), and anecdotal reports from that time period. In some cases, more recent information may be available and used in the LOF.

For fisheries with observer coverage, species or stocks are generally removed from the list of marine mammal species and/or stocks incidentally killed or injured if no interactions are documented in the 5-year timeframe summarized in that year's LOF. For fisheries with no observer coverage and for observed fisheries with evidence indicating that undocumented interactions may be occurring (e.g., fishery has low observer coverage and stranding network data include evidence of fisheries interactions that cannot be attributed to a specific fishery), species and stocks may be retained for longer than 5 years. For these fisheries, NMFS will review the other sources of information listed above and use its discretion to decide when it is appropriate to remove a species or stock.

Where does NMFS obtain information on the level of observer coverage in a fishery on the LOF?

The best available information on the level of observer coverage and the spatial and temporal distribution of observed marine mammal interactions is presented in the SARs. Data obtained from the observer program and observer coverage levels are important tools in estimating the level of marine mammal mortality and serious injury in commercial fishing operations. Starting with the 2005 SARs, each Pacific and Alaska SAR includes an appendix with detailed descriptions of each Category I and II fishery on the LOF, including the observer coverage in those fisheries. For Atlantic fisheries, this information can be found in the LOF Fishery Fact Sheets. The SARs do not provide detailed information on observer coverage in Category III fisheries, because under the MMPA, Category III fisheries are not required to accommodate observers aboard vessels due to the remote likelihood of mortality and serious injury of marine mammals. Fishery information presented in the SARs' appendices and other resources referenced during the tier analysis may include: (1) the level of observer coverage; (2) the target species; (3) the levels of fishing effort; spatial and temporal distribution of fishing effort; (4) the characteristics of fishing gear and operations; (5) management and regulations; and (6) interactions with marine mammals. Copies of the SARs are available on the NMFS Office of Protected Resources website at: https://www.fisheries.noaa.gov/national/marine-mammal-protection/marine-mammal-stock-assessment-reports-region. Information on observer coverage levels in Category I, II, and III fisheries can be found in the fishery fact sheets on the NMFS Office of Protected Resources' website: https://www.fisheries.noaa.gov/national/marine-mammal-protection/list-fisheries-summary-tables. Additional information on observer programs in commercial fisheries can be found on the NMFS National Observer Program's website: https://www.fisheries.noaa.gov/national/fisheries-observers/national-observer-program.

How do I find out if a specific fishery is in Category I, II, or III?

The LOF includes three tables that list all U.S. commercial fisheries by Category. Table 1 lists all of the commercial fisheries in the Pacific Ocean (including Alaska), table 2 lists all of the commercial fisheries in the Atlantic Ocean, Gulf of Mexico, and Caribbean, and table 3 lists all U.S. authorized commercial fisheries on the high seas. A fourth table, table 4, lists all commercial fisheries managed under applicable TRPs or take reduction teams (TRT).

Are high seas fisheries included on the LOF?

Beginning with the 2009 LOF, NMFS includes high seas fisheries in table 3 of the LOF, along with the number of valid High Seas Fishing Compliance Act (HSFCA) permits in each fishery. As of 2004, NMFS issues HSFCA permits only for high seas fisheries analyzed in accordance with the National Environmental Policy Act (NEPA) and the Endangered Species Act (ESA). The authorized high seas fisheries are broad in scope and encompass multiple specific fisheries identified by gear type. For the purposes of the LOF, the high seas fisheries are subdivided based on gear type (e.g., trawl, longline, purse seine, gillnet, troll, etc.) to provide more detail on composition of effort within these fisheries. Many fisheries operate in both U.S. waters and on the high seas, creating some overlap between the fisheries listed in tables 1 and 2 and those in table 3. In these cases, the high seas component of the fishery is not considered a separate fishery, but an extension of a fishery operating within U.S. waters (listed in table 1 or 2). NMFS designates those fisheries in tables 1, 2, and 3 with an asterisk (*) after the fishery's name. The number of HSFCA permits listed in table 3 for the high seas components of these fisheries operating in U.S. waters does not necessarily represent additional effort not accounted for in tables 1 and 2. Many vessels/participants holding HSFCA permits also fish within U.S. waters and are included in the number of vessels and participants operating within those fisheries in tables 1 and 2.

HSFCA permits are valid for 5 years, during which time Fishery Management Plans (FMPs) can change. Therefore, some vessels/participants may possess valid HSFCA permits without the ability to fish under those permits because they were issued for a gear type that is no longer authorized under the most current FMP. For this reason, the number of HSFCA permits displayed in table 3 is likely higher than the actual U.S. fishing effort on the high seas. For more information on how NMFS classifies high seas fisheries on the LOF, see the preamble text in the final 2009 LOF (73 FR 73032, December 1, 2008). Additional information about HSFCA permits can be found at https://www.fisheries.noaa.gov/permit/high-seas-fishing-permits.

Where can I find specific information on fisheries listed on the LOF?

Starting with the 2010 LOF, NMFS developed summary documents, or fishery fact sheets, for each Category I and II fishery on the LOF. These fishery fact sheets provide the full history of each Category I and II fishery, including: (1) when the fishery was added to the LOF; (2) the basis for the fishery's initial classification; (3) classification changes to the fishery; (4) changes to the list of species and/or stocks incidentally killed or injured in the fishery; (5) fishery gear and methods used; (6) observer coverage levels; (7) fishery management and regulation; and (8) applicable TRPs or TRTs, if any. These fishery fact sheets are updated after each final LOF and can be found under “How Do I Find Out if a Specific Fishery is in Category I, II, or III?” on the NMFS Office of Protected Resources' website: https://www.fisheries.noaa.gov/national/marine-mammal-protection/marine-mammal-protection-act-list-fisheries, linked to the “List of Fisheries Summary” table. NMFS is developing similar fishery fact sheets for each Category III fishery on the LOF. However, due to the large number of Category III fisheries on the LOF and the lack of accessible and detailed information on many of these fisheries, the development of these fishery fact sheets is taking significant time to complete. NMFS began posting Category III fishery fact sheets online with the LOF for 2016.

Am I required to register under the MMPA?

Owners of vessels or gear engaging in a Category I or II fishery are required under the MMPA (16 U.S.C. 1387(c)(2)), as described in 50 CFR 229.4, to register with NMFS and obtain a marine mammal authorization to lawfully take marine mammals incidental to commercial fishing operations. The take of threatened or endangered marine mammals requires additional authorization. Owners of vessels or gear engaged in a Category III fishery are not required to register with NMFS or obtain a marine mammal authorization.

How do I register, renew, and receive my Marine Mammal Authorization Program (MMAP) authorization certificate?

NMFS has integrated the MMPA registration process, implemented through the MMAP, with existing state and Federal fishery license, registration, or permit systems for Category I and II fisheries on the LOF. Participants in these fisheries are automatically registered under the MMAP and are not required to submit registration or renewal materials.

In the Pacific Islands, West Coast, and Alaska regions, NMFS will issue vessel or gear owners an authorization certificate via U.S. mail or with their state or Federal license or permit at the time of issuance or renewal. In the Southeast Region, NMFS will issue vessel or gear owners an authorization certificate via U.S. mail automatically at the beginning of each calendar year. In the Greater Atlantic Region, NMFS will issue vessel or gear owners an authorization certificate electronically. The certificate can be downloaded and/or printed at: https://www.fisheries.noaa.gov/national/marine-mammal-protection/marine-mammal-authorization-program#obtaining-a-marine-mammal-authorization-certificate. Printed copies can be mailed upon request by contacting nmfs.gar.mmapcert@noaa.gov or 978-281-9120.

Vessel or gear owners who participate in fisheries in these regions and have not received authorization certificates by the beginning of the calendar year, or with renewed fishing licenses, must contact the appropriate NMFS Regional Office (see FOR FURTHER INFORMATION CONTACT). Authorization certificates may also be obtained by visiting the MMAP website https://www.fisheries.noaa.gov/national/marine-mammal-protection/marine-mammal-authorization-program#obtaining-a-marine-mammal-authorization-certificate.

The authorization certificate, or a copy (physical or electronic), must be on board the vessel while it is operating in a Category I or II fishery, or, for non-vessel fisheries, in the possession of the person in charge of the fishing operation (50 CFR 229.4(e)). Although efforts are made to limit the issuance of authorization certificates to only those vessel or gear owners that participate in Category I or II fisheries, not all state and Federal license or permit systems distinguish between fisheries as classified by the LOF. Therefore, some vessel or gear owners in Category III fisheries may receive authorization certificates even though they are not required for Category III fisheries.

Individuals fishing in Category I and II fisheries for which no state or Federal license or permit is required must register with NMFS by contacting their appropriate Regional Office (see ADDRESSES).

Am I required to submit reports when I kill or injure a marine mammal during the course of commercial fishing operations?

In accordance with the MMPA (16 U.S.C. 1387(e)) and 50 CFR 229.6, any vessel owner or operator, or gear owner or operator (in the case of non-vessel fisheries), participating in a fishery listed on the LOF, must report to NMFS all incidental mortalities and injuries of marine mammals that occur during commercial fishing operations, regardless of the category in which the fishery is placed (i.e., Category I, Category II, or Category III) within 48 hours of the end of the fishing trip or, in the case of non-vessel fisheries, fishing activity. “Injury” is defined in 50 CFR 229.2 as a wound or other physical harm. In addition, any animal that ingests fishing gear or any animal that is released with fishing gear entangling, trailing, or perforating any part of the body is considered injured, regardless of the presence of any wound or other evidence of injury, and must be reported.

Mortality/injury reporting forms and instructions for submitting forms to NMFS can be found at: https://www.fisheries.noaa.gov/national/marine-mammal-protection/marine-mammal-authorization-program#reporting-a-death-or-injury-of-a-marine-mammal-during-commercial-fishing-operations or by contacting the appropriate regional office (see FOR FURTHER INFORMATION CONTACT). Forms may be submitted via any of the following means: (1) online using the electronic form; (2) emailed as an attachment to nmfs.mireport@noaa.gov; (3) faxed to the NMFS Office of Protected Resources at 301-713-0376; or (4) mailed to the NMFS Office of Protected Resources (mailing address is provided on the postage-paid form that can be printed from the web address listed above). Reporting requirements and procedures are found in 50 CFR 229.6.

Am I required to take an observer aboard my vessel?

Individuals participating in a Category I or II fishery are required to accommodate an observer aboard their vessel(s) upon request from NMFS. MMPA section 118 states that the Secretary is not required to place an observer on a vessel if the facilities for quartering an observer or performing observer functions are so inadequate or unsafe that the health or safety of the observer or the safe operation of the vessel would be jeopardized; thereby authorizing the exemption of vessels too small to safely accommodate an observer from this requirement. Observer requirements are found in 50 CFR 229.7.

Am I required to comply with any marine mammal TRP regulations?

Table 4 provides a list of fisheries affected by TRPs and TRTs. TRP regulations are found at 50 CFR 229.30 through 229.37. A description of each TRT and copies of each TRP can be found at: https://www.fisheries.noaa.gov/national/marine-mammal-protection/marine-mammal-take-reduction-plans-and-teams. It is the responsibility of fishery participants to comply with applicable take reduction regulations.

Where can I find more information about the LOF and the MMAP?

Information regarding the LOF and the MMAP, including registration procedures and forms, current and past LOFs, descriptions of each Category I and II fishery and some Category III fisheries, observer requirements, and marine mammal mortality/injury reporting forms and submittal procedures may be obtained at: https://www.fisheries.noaa.gov/national/marine-mammal-protection/marine-mammal-protection-act-list-fisheries, or from any NMFS Regional Office at the addresses listed below:

NMFS, Greater Atlantic Regional Fisheries Office, 55 Great Republic Drive, Gloucester, MA 01930-2298, Attn: Cheryl Cross;

NMFS, Southeast Region, 263 13th Avenue South, St. Petersburg, FL 33701, Attn: Jessica Powell;

NMFS, West Coast Region, Long Beach Office, 501 W Ocean Blvd., Suite 4200, Long Beach, CA 90802-4213, Attn: Dan Lawson;

NMFS, Alaska Region, Protected Resources, P.O. Box 22668, 709 West 9th Street, Juneau, AK 99802, Attn: Suzie Teerlink; or

NMFS, Pacific Islands Regional Office, Protected Resources Division, 1845 Wasp Blvd., Building 176, Honolulu, HI 96818, Attn: Elena Duke.

Sources of Information Reviewed for the 2024 LOF

NMFS reviewed the marine mammal incidental mortality and serious injury information presented in the SARs for all fisheries to determine whether changes in fishery classification were warranted. The SARs are based on the best scientific information available at the time of preparation, including the level of mortality and serious injury of marine mammals that occurs incidental to commercial fishery operations and the PBR levels of marine mammal stocks. The information contained in the SARs is reviewed by regional Scientific Review Groups (SRGs) representing Alaska, the Pacific (including Hawaii), and the U.S. Atlantic, Gulf of Mexico, and Caribbean. The SRGs were established by the MMPA to review the science that informs the SARs and to advise NMFS on marine mammal population status, trends, and stock structure, as well as on uncertainties in the science, research needs, and other issues.

NMFS also reviewed other sources of new information, including marine mammal stranding and entanglement data, observer program data, fishermen self-reports, reports to the SRGs, conference papers, FMPs, and ESA documents.

The LOF for 2024 was based on, among other things: (1) stranding data; (2) fishermen self-reports; and (3) SARs (primarily the 2022 SARs, which are based on data from 2016-2020). The SARs referenced in this LOF include: 2021 (87 FR 47385, August 3, 2022) and 2022 (88 FR 54592, August 11, 2023). The SARs are available at: https://www.fisheries.noaa.gov/national/marine-mammal-protection/marine-mammal-stock-assessment-reports-region.

Comments and Responses

NMFS received 28 comment letters on the proposed LOF for 2024 (88 FR 62748, September 13, 2023). Comments were received from 11 members of the public: (1) Alaska Department of Fish and Game (ADF&G); (2) California Coast Crab Association (CCCA); (3) Don't Cage Our Oceans; (4) Florida Department of Agriculture and Consumer Services; (5) Hawaii Division of Aquatic Resources (HI DAR); (6) Hawaii Longline Association (HLA); (7) Maine Department of Marine Resources (ME DMR); (8) Maine Lobstermen's Association (MLA); (9) Southeast Alaska Fishermen's Alliance (SEAFA) Taylor Shellfish Company; (10) United Southeast Alaska Gillnetters (USAG); and (11) U.S. Fish and Wildlife Service (FWS). NMFS additionally received a joint letter from American Cetacean Society-Oregon Chapter (ACS), Center for Biological Diversity, Defenders of Wildlife, EarthJustice, Endangered Habitats League, the Natural Resources Defense Council, Oceana, Ocean Defenders Alliance, and the Resource Renewal Institute (ACS et al.). Nine of the comment letters received were in response to NMFS request for public input on aquaculture fishery descriptions. NMFS thanks these commenters for providing information in response to our aquaculture request, and we will consider all the aquaculture information submitted in future LOFs. Responses to substantive comments are below. Comments on actions not related to the LOF are not included.

Comments on Commercial Fisheries in the Pacific Ocean

Comment 1: ADF&G, SEAFA, USAG, and two members of the public opposed the reclassification of the AK Southeast salmon drift gillnet fishery from a Category II to a Category I fishery. ADF&G, SEAFA, USAG reiterated comments provided on the draft 2022 Southeast Alaska harbor porpoise SARs (8 FR 4162, January 24, 2023). Commenters raised concerns that the AK Southeast salmon drift gillnet fishery reclassification is based on inadequate harbor porpoise M/SI estimates and biased population size estimates in the 2022 SAR. Several commenters requested NMFS work with ADF&G to gather additional data on the harbor porpoise population, stock structure, and fisheries bycatch.

Response: NMFS appreciates the concerns raised in the comments. Comments on the 2022 SARs were addressed in the Federal Register notice for the final SARs (88 FR 54592, August 11, 2023). NMFS uses the best available scientific information to prepare the annual LOF, which includes reliance on the SARs for M/SI data. The LOF is re-evaluated annually to allow for the addition of best available information as it becomes available. NMFS continues to pursue options for future observer data to inform M/SI estimates for this fishery, and NMFS will consider data in future SARs to inform the annual LOF. Therefore, NMFS does not retain the AK Southeast salmon drift gillnet fishery as a Category II fishery and reclassifies the AK Southeast salmon drift gillnet fishery from a Category II to a Category I fishery.

Comment 2: ADF&G commented that the proposed reclassification of the AK Southeast salmon drift gillnet fishery from a Category II to a Category I fishery may result in changes to the fishery with potential economic impacts for the industry and consumers.

Response: The requirements for Category I and II fisheries under MMPA section 118(c) are the same. The MMPA section 118(c) requirements for Category I and II fisheries are to: (1) register with NMFS through the Marine Mammal Authorization Program; (2) accommodate observers aboard vessels, upon request; and (3) comply with any applicable take reduction plans. In addition, any vessel owner or operator participating in a fishery listed on the LOF must report to NMFS all incidental mortalities and injuries of marine mammals that occur during commercial fishing operations, regardless of the category in which the fishery is placed (i.e., Category I, Category II, or Category III). If NMFS takes a management action (e.g., through the development of a TRP), then economic analyses of the effects of that TRP would be evaluated in subsequent rulemaking actions.

Comment 3: A member of the public recommends NMFS retain the superscript “1” for Eastern North Pacific Alaska resident stock of killer whale to indicate the stock is driving the Category II classification of the AK Bering Sea, Aleutian Islands flatfish trawl fishery based on the nine killer whale mortalities in the fishery in 2023. The commenter notes that NMFS has not yet released genetic information for the killer whale mortalities, but based on previous M/SI data for the AK Bering Sea, Aleutian Islands flatfish trawl fishery it is likely the whale mortalities in 2023 are from the Eastern North Pacific Alaska resident stock.

Response: NMFS agrees and retains the superscript “1” for the Eastern North Pacific Alaska resident stock of killer whale in the Category II AK Bering Sea, Aleutian Islands flatfish trawl fishery. While the Eastern North Pacific Alaska resident stock of killer whale stock is currently not driving the Category II classification of the AK Bering Sea, Aleutian Islands flatfish trawl fishery, there are past M/SI and more recent data that suggest that the M/SI is ongoing. NMFS will re-evaluate this in the next LOF cycle and adjust at that time, if necessary.

Comment 4: FWS recommends NMFS revise the Northern sea otter stock name on the list of species/stocks incidentally killed or injured for consistency with the current stock name in the SARs. They recommend revising Northern sea otter, South central AK to Northern sea otter, Southcentral AK.

Response: NMFS agrees and revises the stock name from Northern sea otter, South central AK to Northern sea otter, Southcentral AK on the list of species/stocks incidentally killed or injured in the following fisheries: (1) Category II AK Cook Inlet salmon set gillnet, (2) Category II AK Prince William Sound salmon drift gillnet and (3) Category III AK Prince William Sound salmon set gillnet.

Comment 5: HI DAR requests NMFS revisit the classification of the Category II HI shortline fishery. The Category II HI shortline fishery was classified by analogy to the HI longline fishery in the 2010 LOF. HI DAR states that there are differences in gear composition between the HI shortline fishery and HI longline fishery that present marked differences in potential threats to marine mammals. DAR notes that shortline gear is used by the HI seamount fishery, also known as the HI offshore handline fishery, which consists of fewer than 10 vessels and not all vessels currently use the gear. HI DAR requests NMFS review new information on shortline gear including its risk to marine mammals.

Response: The HI shortline fishery is classified as Category II by analogy to the HI longline fishery based on similarities between the gears used in the fisheries. NMFS may classify fisheries by analogy to other fisheries that use similar fishing techniques or gear that are known to cause M/SI of marine mammals, or according to factors discussed in the final LOF for 1996 (60 FR 67063, December 28, 1995) and listed in the regulatory definition of a Category II fishery. The HI shortline fishery lacks a dedicated observer program or an electronic monitoring component to assess the level of M/SI, or lack thereof, within the fishery. While multiple gear types are used within the HI shortline fishery, vessels may deploy shortline gear, which sets hooks in a manner consistent with longline vessels. Additionally, the fishery operates in locations that overlap with Main Hawaiian Island (MHI) insular false killer whale's range and has the potential for interactions with these animals. In addition, HI DAR did not provide specific information on differences between HI shortline and longline gear. Therefore, NMFS is not making changes to the HI shortline fishery for the 2024 LOF.

Comment 6: HLA supports removing the Hawaii stock of striped dolphin from the list of species/stocks incidentally killed or injured in the Category I HI deep-set longline fishery. They also support removing the Hawaii stock of fin whale and Central North Pacific stock of humpback whale from the list of species/stocks incidentally killed or injured in the Category II HI shallow-set longline fishery.

Response: NMFS agrees and removes the stocks from the list of species/stocks incidentally killed or injured in the respective fisheries.

Comment 7: HLA reiterates a previous comment recommending NMFS remove the MHI insular and Northwestern Hawaiian Islands (NWHI) stocks of false killer whales from the list of species and/or stocks incidentally killed or injured in the Category I HI deep-set longline fishery. The HI deep-set longline fishery is observed with 20 percent coverage, and there have been no documented M/SI of the MHI insular false killer whale stock in the most recent 5-year period. HLA notes that (a) the False Killer Whale Take Reduction Plan (FKWTRP) closed the deep-set longline fishery for almost the entire range of the MHI insular stock, (b) since this change was made in 2013 there have been no false killer whale interactions in the fishery, and (c) there has never been a deep-set longline fishery M/SI in the very small area of the stocks' range where the fishery operates. They also state that no information has been presented to the False Killer Whale Take Reduction Team or the Pacific Scientific Review Group suggesting any false killer whale M/SI in the deep-set fishery can reliably be attributed to the MHI insular or NWHI stocks of false killer whales. HLA requests that NMFS remove the MHI insular and NWHI stocks of false killer whales from the list of species and/or stocks incidentally killed or injured in the Category I HI deep-set longline fishery.

Response: This comment has been addressed previously (see 84 FR 22051, May 16, 2019; 85 FR 21079, April 16, 2020; 86 FR 3028, January 14, 2021; 88 FR 16899, March 21, 2023). The MHI insular stock of false killer whales have been documented via telemetry to move far enough offshore to reach longline fishing areas (Bradford et al., 2015). The MHI insular, Hawaii pelagic, and NWHI stocks have partially overlapping ranges. MHI insular false killer whales have been satellite tracked as far as 115 kilometers (km) from the MHI, while pelagic stock animals have been tracked to within 11 km of the MHI and throughout the NWHI. Thus, M/SI of false killer whales of unknown stock within the stock overlap zones must be prorated to MHI insular, pelagic, or NWHI stocks.

Annual bycatch estimates are prorated using a process outlined in detail in the SARs, which account for M/SI that occur within the MHI-pelagic or NWHI-pelagic overlap zones. As described in the 2021 SAR (Carretta et al., 2022), from 2015-2019 the mean estimated annual M/SI of false killer whales was 9.8. This results in a prorated mean estimated annual M/SI of 0.03 for the MHI insular stock and 0.1 for the NWHI stock.

MHI insular false killer whales have been documented with injuries consistent with fisheries interactions that have not been attributed to a specific fishery (Baird et al., 2014). For observed fisheries with evidence indicating that undocumented interactions may be occurring (e.g., fishery has evidence of fisheries interactions that cannot be attributed to a specific fishery, and stranding network data include evidence of fisheries interactions that cannot be attributed to a specific fishery), stocks may be retained on the LOF for longer than 5 years. For these fisheries, NMFS will review the other sources of relevant information to determine when it is appropriate to remove a species or stock from the LOF. Therefore, NMFS retains both the MHI insular and NWHI false killer whale stocks on the list of species and/or stocks incidentally killed or injured in the Category I HI deep-set longline fishery.

Comment 8: ACS et al. supports NMFS reclassifying the CA Dungeness crab pot fishery from a Category II to a Category I fishery based on incidental M/SI of the Central America/Southern Mexico-CA/OR/WA stock of humpback whale. They also state that Rmax (maximum net productivity rate) for the Central America/Southern Mexico-CA/OR/WA stock of humpback whale used in the 2022 SAR is inconsistent with the Guidelines for Preparing Stock Assessment Reports Pursuant to the 1994 Amendments to the Marine Mammal Protection Act.

Response: NMFS thanks the organizations for their comment and reclassifies the CA Dungeness crab pot fishery from a Category II to a Category I fishery. Comments on the draft 2022 SARs, including selection of parameters such as Rmax, were addressed in the Federal Register notice for the final SARs (88 FR 54592, August 11, 2023).

Comment 9: CCCA opposes NMFS reclassifying the CA Dungeness crab pot fishery from a Category II to a Category I fishery based on incidental M/SI of the Central America/Southern Mexico-CA/OR/WA stock of humpback whale. They state that the reclassification is not based on the best available information since it uses M/SI data from 2016-2020. CCCA notes that in 2016, there was an unprecedented 22 humpback whale entanglements and that this increase was attributed to anomalous ocean conditions that changed the whales' migratory path. Since 2016, CA Department of Fish and Wildlife has implemented regulations to reduce entanglement risk. CCCA state that in 2021 there was one humpback whale entanglement and four in 2022 in the CA Dungeness crab pot fishery. If the more recent M/SI data are used and excludes the 2016 data, the estimated annual M/SI is below 50 percent of PBR for the Central America/Southern Mexico-CA/OR/WA stock of humpback whale and therefore a Category II fishery.

Response: NMFS appreciates the comments about the implementation of new regulations and measures to address entanglements in the CA Dungeness crab pot fishery following the increased entanglements in 2016. We also acknowledge the efforts of CA Department of Fish and Wildlife and other stakeholders in California to take proactive steps to reduce entanglement risks in the CA Dungeness crab pot fishery through convening the California Dungeness Crab Fishing Gear Working Group and subsequent development and implementation of the Risk Assessment and Mitigation Program. NMFS uses the best available scientific information to prepare the annual LOF, which includes relying on the SARs for M/SI data. The LOF for 2024 was based on, among other things: (1) stranding data; (2) fishermen self-reports; and (3) SARs (primarily the 2022 SARs) which are based on data from 2016-2020. As M/SI information becomes available from later years, NMFS will review classification of the CA Dungeness crab pot fishery in a future LOF. For the 2024 LOF, NMFS reclassifies the CA Dungeness crab pot fishery from a Category II to a Category I fishery.

Comment 10: ACS et al. requests NMFS add the Central America/Southern Mexico-CA/OR/WA and Mainland Mexico-CA/OR/WA stocks of humpback whale to the list of species/stocks incidentally killed or injured in the Category III WA/OR/CA groundfish/finfish hook and line fishery based on an entanglement in 2021.

Response: The injury determination for the 2021 humpback whale entanglement in the Category III WA/OR/CA groundfish/finfish hook and line fishery (Carretta et al. 2023a) was finalized after the proposed 2024 LOF published. NMFS adds the Central America/Southern Mexico-CA/OR/WA and Mainland Mexico-CA/OR/WA stocks of humpback whale to the list of species/stocks incidentally killed or injured in the Category III WA/OR/CA groundfish/finfish hook and line fishery. NMFS will conduct the tier analysis for this M/SI in the Category III WA/OR/CA groundfish/finfish hook and line fishery for the 2025 LOF.

Comment 11: ACS et al. recommends NMFS add the California experimental pot fishery targeting king and other deep water crab species to the LOF and classify the fishery by analogy as a Category II fishery. They note that the fishery uses large pot gear with vertical buoy lines in depths greater than 125 fathoms (228.6 m) off the coast of California north of Pigeon Point (south of San Francisco). ACS et al. states there was a humpback whale entanglement in this fishery in 2021 near the Channel Islands National Marine Sanctuary.

Response: Any eligible commercial fishery not specifically identified on the LOF is deemed to be a Category II fishery until the next LOF is published (50 CFR 229.2). NMFS will consider the comments provided by ACS et al. in a future proposed LOF.

Comment 12: ACS et al. requests NMFS add the California groundfish/finfish set net fishery as a Category II fishery. They note that the 2024 LOF does not include the California groundfish/finfish set net fishery, which is managed with other types of fixed gear in the open access sector under the Pacific Coast Groundfish Fishery Management Plan (Groundfish FMP).

Response: NMFS acknowledges that the use of gillnets remains an authorized gear type in areas south of 38 degrees N. lat. (50 CFR 660.330(b) and 50 CFR 660.330(b)(2)(ii)) under the Groundfish FMP. However, NMFS' review of fishing effort information, including landings and observer data, indicate that there does not appear to be any dedicated or stand-alone use of gillnets for harvesting groundfish on the West Coast that is not already associated with other Category II gillnet fisheries on the LOF. Available information suggests that some limited landings of groundfish species may occur under the open access provisions of the Groundfish FMP while vessels are participating in the Category II CA halibut/white seabass and other species set gillnet (>3.5 inch (in) mesh) fishery in California. Therefore, gillnet fishing resulting in the harvest of species managed under the Groundfish FMP is already reflected on the LOF as Category II fishing effort.

Comments on Commercial Fisheries in the Atlantic Ocean, Gulf of Mexico, and Caribbean

Comment 13: ME DMR and MLA reiterate previous comments requesting that the Maine state waters trap/pot fishery be separated out from the broader Category I Northeast/Mid-Atlantic American lobster and Jonah crab trap/pot fishery and classified as a separate and independent Category II fishery. Both ME DMR and MLA cite the rarity of North Atlantic right whales in Maine state waters, lack of attributed right whale entanglements in the Maine lobster fishery, the implementation of unique gear marking and additional risk reduction measures combined with an increase in North Atlantic right whale monitoring in the Gulf of Maine as the justification that the ME state waters lobster trap pot fishery is a separate and distinct fishery.

ME DMR and MLA note that state regulations require that all buoy lines in state waters and “the sliver” have a 1700-pound (lb) (771 kg) weak insertion 50 percent of the way down the vertical line, or approved 1700-lb (771 kg) breaking strength line in the top 50 percent of the vertical line. Both commenters assert that the Maine state fishery has unique gear markings that distinguishes it from rest of the Category I Northeast/Mid-Atlantic American lobster and Jonah crab trap/pot fishery. In Maine state waters, fishermen must have a 36-inch (91.4 cm) purple mark in the top two fathoms of their line, another 12 inch (30.5 cm) mark midway down the line, and another 12 inch (30.5 cm) mark at the bottom of the line. Federal green marks are not allowed in Maine state waters.

ME DMR and MLA state that North Atlantic right whale monitoring efforts have increased substantially in the Gulf of Maine. Since September 2022, New England Aquarium has been conducting aerial surveys off the coast of Maine and to date, 12 surveys have been completed with no right whale sightings. In addition, Woods Hole Oceanographic Institute is conducting acoustic glider work in the Gulf of Maine. Data from December 2022-April 2023 and June-August 2023 had no confirmed detections of right whales and the former timeframe had only a few possible detections.

Both commenters acknowledge that Maine and Massachusetts have taken different approaches to risk reduction in their respective fisheries. They stress that Massachusetts state waters have concentrated aggregations of right whales resulting in entanglement risks during specific seasons. In contrast, right whale sightings in Maine state waters are infrequent, resulting in a low, diffuse entanglement risk coast wide during most of the year. Based on the predictable seasonal aggregations of right whales in Cape Cod Bay, Massachusetts used a seasonal closure as their primary risk reduction measure. While Maine, with diffuse risk, used “trawling up” as the primary risk reduction measure. Based on this, NMFS should not compare the two states' differing approaches as a basis for decision making to reclassify the Maine state lobster trap/pot fishery as a separate and distinct fishery from the broader Category I Northeast/Mid-Atlantic American lobster and Jonah crab trap/pot fishery.

Response: NMFS recognizes that the state of Maine has modified their lobster trap/pot fishery in alignment with the Atlantic Large Whale Take Reduction Plan requirements that were finalized in 2021 (86 FR 5990, September 17, 2021), has expanded acoustic monitoring, and has recently commenced visual surveys. However, cumulatively, these efforts do not differentiate the Maine state lobster fishery as a distinct fishery. To reiterate the responses stated in previous LOFs (88 FR 16899, March 21, 2023 and 87 FR 23122, April 19, 2022), the state of Massachusetts was considered to be a unique, separate fishery because of the combination of measures that have been taken (see previous LOF: 88 FR 16899, March 21, 2023). As stated in our previous response, in making our decision, we considered the changes that the state of Massachusetts made (including gear changes that distinguish Massachusetts rope from other states, due to increased weak rope and insert requirements and increased marking frequency, amplified closures and a long time series of dedicated continual monitoring efforts) collectively, not as individual, standalone factors.

With recent changes to gear markings, we are only now beginning to definitively trace entanglement gear to its source. According to data spanning 2020-2022, entanglements with exclusively purple gear markings, signifying gear fished in Maine state waters, include three minke and two humpback whales. However, for the majority of documented entanglement cases spanning 2020-2022, gear could not be attributed to a specific origin (for 92 percent of North Atlantic right whale, 85 percent of humpback whale, 71 percent of minke whale, and 100 percent of fin whale cases).

The state of Maine's growing monitoring effort may inform future decisions regarding how to reduce North Atlantic right whale M/SI, as well as M/SI of other endangered large whales and marine mammals. As we continue to gather more data on whale distribution, habitat use, movement and M/SI due to entanglements, NMFS will evaluate whether splitting out the Maine state waters trap/pot fishery from the broader Category I Northeast/Mid-Atlantic American lobster and Jonah crab trap/pot fishery is appropriate.

Summary of Changes From the Proposed Rule

In this final rule, NMFS corrects an error from the proposed rule in table 2 and removes the Category III U.S. Atlantic tuna purse seine fishery. On October 3, 2022, NMFS published a final rule that discontinued the use of purse seines in the Atlantic highly migratory species bluefin tuna fishery (87 FR 59966, effective January 1, 2023).

Based on public comment, and for consistency with the current stock name in the SARs, NMFS revises the stock name from Northern sea otter, South central AK to Northern sea otter, Southcentral AK on the list of species/stocks incidentally killed or injured in the following fisheries: (1) Category II AK Cook Inlet salmon set gillnet, (2) Category II AK Prince William Sound salmon drift gillnet, and (3) Category III AK Prince William Sound salmon set gillnet.

Based on public comment, NMFS retains the “1” superscript for the Eastern North Pacific Alaska resident stock of killer whale in the Category II AK Bering Sea, Aleutian Islands flatfish trawl fishery.

Based on public comment, NMFS adds the Central America/Southern Mexico-CA/OR/WA and Mainland Mexico-CA/OR/WA stocks of humpback whale to the list of species/stocks incidentally killed or injured in the Category III WA/OR/CA groundfish/finfish hook and line fishery.

Summary of Changes to the LOF for 2024

The following summarizes changes to the LOF for 2024, including the classification of fisheries, fisheries listed, the estimated number of vessels/persons in a particular fishery, and the species and/or stocks that are incidentally killed or injured in a particular fishery. NMFS adds one fishery, removes seven fisheries, and reclassifies four fisheries in the LOF for 2024. NMFS also makes changes to the estimated number of vessels/persons and list of species and/or stocks killed or injured in certain fisheries. The classifications and definitions of U.S. commercial fisheries for 2024 are identical to those provided in the LOF for 2023, except for the changes discussed below. State and regional abbreviations used in the following paragraphs include AK (Alaska), CA (California), FL (Florida), GA (Georgia), HI (Hawaii), NC (North Carolina), OR (Oregon), SC (South Carolina), WA (Washington), and WNA (Western North Atlantic).

Commercial Fisheries in the Pacific Ocean

Classification of Fisheries

NMFS reclassifies the Category II AK Southeast salmon drift gillnet fishery to a Category I fishery.

NMFS reclassifies the Category II CA Dungeness crab pot fishery to a Category I fishery.

NMFS reclassifies the Category II AK Bering Sea, Aleutian Islands Pacific cod pot fishery to a Category III fishery.

Fishery Name and Organizational Changes and Clarification

NMFS combines the Category III AK Dungeness crab fishery with the Category III AK miscellaneous invertebrates handpick fishery.

NMFS removes the Category III AK roe herring and food/bait herring beach seine fishery from the LOF.

NMFS removes the Category III AK state-managed waters of Prince William Sound groundfish trawl fishery.

NMFS removes the Category III AK Bering Sea, Aleutian Islands groundfish hand troll and dinglebar troll fishery from the LOF.

NMFS removes the Category III AK herring spawn on kelp dive hand/mechanical collection fishery from the LOF.

NMFS adds the superscript “1” to the southern Southeast Alaska inland waters stocks of harbor porpoise to indicate the stock is driving the Category I classification of the AK Southeast salmon drift gillnet fishery.

NMFS adds the superscript “1” to the Central America/Southern Mexico-CA/OR/WA stocks of humpback whale to indicate the stock is driving the Category I classification of the CA Dungeness crab pot fishery. NMFS also removes the superscript “1” from Eastern North Pacific stock of blue whale to indicate the stock is not driving the Category I classification of the CA Dungeness crab pot fishery.

NMFS removes the superscript “1” from the CA/OR/WA stock of minke whale to indicate the stock is no longer driving the Category II classification of the CA thresher shark/swordfish drift gillnet (≥14 in mesh) fishery.

NMFS adds the superscript “1” to the Central America/Southern Mexico—CA/OR/WA stock of humpback whale to indicate the stock is driving the Category II classification of the CA halibut/white seabass and other species set gillnet (>3.5 in mesh) fishery.

NMFS adds the superscript “2” to the Category II AK Cook Inlet salmon set gillnet fishery to indicate this fishery is classified by analogy.

NMFS removes the superscript “2” from the Category II AK Yakutat salmon set gillnet fishery to indicate this fishery is not classified by analogy to other Category II gillnet fisheries. NMFS also adds the superscript “1” to the Yakutat/Southeast Alaska offshore waters stock of harbor porpoise to indicate the stock is driving the Category II classification of the AK Yakutat salmon set gillnet fishery.

NMFS removes the superscript “1” from the Western North Pacific stock of humpback whale to indicate the stocks is no longer driving the Category II classification of the AK Bering Sea, Aleutian Islands flatfish trawl fishery.

NMFS adds the superscript “1” to the Central America/Southern Mexico-CA/OR/WA stock of humpback whale to indicate the stock is driving the Category II classification of the CA coonstripe shrimp pot fishery.

NMFS adds the superscript “1” to the Central America/Southern Mexico-CA/OR/WA stock of humpback whale to indicate the stock is driving the Category II classification of the CA spiny lobster fishery.

NMFS adds the superscript “1” to the Central America/Southern Mexico-CA/OR/WA stock of humpback whale to indicate the stock is driving the Category II classification of the CA spot prawn pot fishery.

NMFS adds the superscript “1” to the Central America/Southern Mexico-CA/OR/WA stock of humpback whale to indicate the stock is driving the Category II classification of the OR Dungeness crab pot fishery.

NMFS adds the superscript “1” to both the Central America/Southern Mexico-CA/OR/WA and Mainland Mexico-CA/OR/WA stocks of humpback whale to indicate the stocks are driving the Category II classification of the WA/OR/CA sablefish pot fishery.

NMFS adds the superscript “1” to the Central America/Southern Mexico-CA/OR/WA stock of humpback whale to indicate the stock is driving the Category II classification of the WA coastal Dungeness crab pot fishery.

NMFS adds the superscript “1” to the North Pacific stock of sperm whale to indicate the stock is driving the Category II classification of the AK Gulf of Alaska sablefish longline fishery.

Number of Vessels/Persons

NMFS updates the estimated number of vessels/persons in the Pacific Ocean (table 1) as follows:

Category I

• HI deep-set longline fishery from 150 to 146 vessels/persons; and

• AK Southeast salmon drift gillnet fishery from 474 to 371 vessels/persons.

Category II

• AK Bristol Bay salmon drift gillnet fishery from 1,862 to 1,521 vessels/persons;

• AK Bristol Bay salmon set gillnet fishery from 979 to 855 vessels/persons;

• AK Kodiak salmon set gillnet fishery from 188 to 128 vessels/persons;

• AK Cook Inlet salmon set gillnet fishery from 736 to 479 vessels/persons;

• AK Cook Inlet salmon drift gillnet fishery from 569 to 355 vessels/persons;

• AK Peninsula/Aleutian Islands salmon drift gillnet fishery from 162 to 148 vessels/persons;

• AK Peninsula/Aleutian Islands salmon set gillnet fishery from 113 to 75 vessels/persons;

• AK Prince William Sound salmon drift gillnet fishery from 537 to 483 vessels/persons;

• AK Yakutat salmon set gillnet fishery from 168 to 95 vessels/persons;

• AK Bering Sea, Aleutian Islands flatfish trawl fishery from 32 to 29 vessels/persons;

• AK Bering Sea, Aleutian Islands pollock trawl fishery from 102 to 116 vessels/persons;

• AK Gulf of Alaska sablefish longline fishery from 295 to 177 vessels/persons;

• American Samoa longline fishery from 18 to 11 vessels/persons; and

• HI shortline fishery from 11 to 8 vessels/persons.

Category III

• AK Kuskokwim, Yukon, Norton Sound, Kotzebue salmon gillnet fishery from 1,778 to 360 vessels/persons;

• AK Prince William Sound salmon set gillnet fishery from 29 to 25 vessels/persons;

• AK roe herring and food/bait herring gillnet fishery from 920 to 15 vessels/persons;

• HI inshore gillnet fishery form 27 to 26 vessels/persons;

• AK Cook Inlet salmon purse seine fishery from 83 to 16 vessels/persons;

• AK Kodiak salmon purse seine fishery from 376 to 159 vessels/persons;

• AK Southeast salmon purse seine fishery from 315 to 206 vessels/persons;

• AK roe herring and food/bait herring purse seine fishery from 356 to 31 vessels/persons;

• AK salmon beach seine fishery from 31 to two vessels/persons;

• AK salmon purse seine (Prince William Sound, Chignik, Alaska Peninsula) fishery from 936 to 298 vessels/persons;

• HI throw net, cast net fishery from 16 to 13 vessels/persons;

• HI seine net fishery from 16 to 17 vessels/persons;

• AK Gulf of Alaska groundfish hand troll and dinglebar troll fishery from unknown to four vessels/persons;

• AK salmon troll fishery from 1,908 to 850 vessels/persons;

• American Samoa tuna troll fishery from three to six vessels/persons;

• HI troll fishery from 1,293 to 1,124 vessels/persons;

• HI rod and reel fishery from 246 to 235 vessels/persons;

• Guam tuna troll fishery from 465 to 450 vessels/persons;

• AK Bering Sea, Aleutian Islands Pacific cod longline fishery from 45 to 26 vessels/persons;

• AK Bering Sea, Aleutian Islands sablefish longline fishery from 22 to eight vessels/persons;

• AK Bering Sea, Aleutian Islands halibut longline fishery from 127 to 84 vessels/persons;

• AK Gulf of Alaska halibut longline fishery from 855 to 689 vessels/persons;

• AK Gulf of Alaska Pacific cod longline fishery from 92 to 23 vessels/persons;

• AK octopus/squid longline fishery from three to zero vessels/persons;

• HI kaka line fishery from 16 to 17 vessels/persons;

• HI vertical line fishery from five to six vessels/persons;

• AK Bering Sea, Aleutian Islands Atka mackerel trawl fishery from 13 to 17 vessels/persons;

• AK Bering Sea, Aleutian Islands Pacific cod trawl fishery from 72 to 64 vessels/persons;

• AK Bering Sea, Aleutian Islands rockfish trawl fishery from 17 to 22 vessels/persons;

• AK Gulf of Alaska flatfish trawl fishery from 36 to 16 vessels/persons;

• AK Gulf of Alaska Pacific cod trawl fishery from 55 to 12 vessels/persons;

• AK Gulf of Alaska pollock trawl fishery from 67 to 60 vessels/persons;

• AK Gulf of Alaska rockfish trawl fishery from 43 to 35 vessels/persons;

• AK Kodiak food/bait herring otter trawl fishery from four to zero vessels/persons;

• AK shrimp otter trawl and beam trawl fishery from 38 to 12 vessels/persons;

• AK Bering Sea, Aleutian Islands Pacific cod pot fishery from 59 to 80 vessels/persons;

• AK Bering Sea, Aleutian Islands sablefish pot fishery from 16 to 15 vessels/persons;

• AK Bering Sea, Aleutian Islands crab pot fishery from 540 to 73 vessels/persons;

• AK Gulf of Alaska crab pot fishery from 271 to 86 vessels/persons;

• AK Gulf of Alaska Pacific cod pot fishery from 116 to 48 vessels/persons;

• AK Gulf of Alaska sablefish pot fishery from 248 to 129 vessels/persons;

• AK Southeast Alaska shrimp pot fishery from 99 to 104 vessels/persons;

• AK shrimp pot, except Southeast fishery from 141 to 77 vessels/persons;

• AK octopus/squid pot fishery from 15 to zero vessels/persons;

• HI crab trap fishery from three to four vessels/persons;

• HI crab net fishery from three to four vessels/persons;

• HI Kona crab loop net fishery from 24 to 13 vessels/persons;

• American Samoa bottomfish fishery from 46 to 44 vessels/persons;

• Commonwealth of the Northern Mariana Islands bottomfish fishery from 12 to seven vessels/persons;

• Guam bottomfish fishery from 84 to 63 vessels/persons;

• HI bottomfish handline fishery from 404 to 382 vessels/persons;

• HI inshore handline fishery from 182 to 158 vessels/persons;

• HI pelagic handline fishery from 311 to 271 vessels/persons;

• AK Gulf of Alaska groundfish jig fishery from 214 to 68 vessels/persons;

• AK halibut jig fishery from 71 to five vessels/persons;

• AK herring spawn on kelp pound net fishery from 291 to 143 vessels/persons;

• AK Southeast herring roe/food/bait pound net fishery from two to one vessels/persons;

• AK clam fishery from 130 to 57 vessels/persons;

• AK miscellaneous invertebrates handpick fishery from 214 to 188 vessels/persons;

• HI black coral diving fishery from less than three to none recorded;

• HI handpick fishery from 28 to 25 vessels/persons;

• HI lobster diving fishery from 10 to 12 vessels/persons;

• HI spearfishing fishery from 79 to 67 vessels/persons; and

• HI aquarium collecting fishery from 39 to none recorded.

List of Species and/or Stocks Incidentally Killed or Injured in the Pacific Ocean

NMFS adds the Beringia stock of bearded seal to the list of species/stocks incidentally killed or injured in the Category II AK Bering Sea, Aleutian Islands pollock trawl fishery.

NMFS adds the U.S. stock of California sea lion to the list of species/stocks incidentally killed or injured in the Category III CA sea cucumber trawl fishery.

NMFS removes the Hawaii stock of striped dolphin from the list of species/stocks incidentally killed or injured in the Category I HI deep-set longline fishery.

NMFS removes the Hawaii stock of fin whale and Central North Pacific stock of humpback whale from the list of species/stocks incidentally killed or injured in the Category II HI shallow-set longline fishery.

NMFS revises marine mammal stock names on the list of species/stocks incidentally killed or injured for consistency with the current stock names in the SARs as follows:

Category II AK Bristol Bay Salmon Drift Gillnet Fishery

• Harbor seal, Bering Sea to harbor seal, Bristol Bay; and

Category II AK Gulf of Alaska Sablefish Longline

• Northern elephant seal, California to Northern elephant seal, California breeding.

NMFS updates the harbor porpoise stocks on the list of species/stocks incidentally killed or injured based on the revised stock structures in the 2022 SAR (Young et al., 2023) as follows:

Category I AK Southeast Salmon Drift Gillnet Fishery

• Harbor porpoise, southeast Alaska to harbor porpoise, southern Southeast Alaska inland waters and harbor porpoise, northern Southeast Alaska inland waters, and

Category II AK Yakutat Salmon Set Gillnet Fishery

• Harbor porpoise, southeast Alaska to harbor porpoise, Yakutat/Southeast Alaska offshore waters.

NMFS updates the humpback whale stocks on the list of species/stocks incidentally killed or injured based on the revised stock structures in the 2022 SAR (Carretta et al., 2023; Young et al., 2023) as follows:

Category I AK Southeast Salmon Drift Gillnet Fishery

• Humpback whale, Central North Pacific to humpback whale, Hawai'i and humpback whale, Mexico-North Pacific;

Category II CA Thresher Shark/Swordfish Drift Gillnet (≥14 in Mesh) Fishery

• Humpback whale, CA/OR/WA to humpback whale, Central America/Southern Mexico-CA/OR/WA and humpback whale, Mainland Mexico-CA/OR/WA stock;

Category II CA Halibut/White Seabass and Other Species Set Gillnet (>3.5 in Mesh) Fishery

• Humpback whale, CA/OR/WA to humpback whale, Central America/Southern Mexico-CA/OR/WA and humpback whale, Mainland Mexico-CA/OR/WA stock;

Category II AK Kodiak Salmon Set Gillnet Fishery

• Humpback whale, Central North Pacific to humpback whale, Hawai'i and humpback whale, Mexico-North Pacific;

Category II AK Cook Inlet Salmon Set Gillnet Fishery

• Humpback whale, Central North Pacific to humpback whale, Hawai'i and humpback whale, Mexico-North Pacific;

Category II AK Prince William Sound Salmon Drift Gillnet Fishery

• Humpback whale, Central North Pacific to humpback whale, Hawai'i and humpback whale, Mexico-North Pacific;

Category II AK Yakutat Salmon Set Gillnet Fishery

• Humpback whale, Central North Pacific to humpback whale, Hawai'i and humpback whale, Mexico-North Pacific;

Category II AK Bering Sea, Aleutian Islands Pollock Trawl Fishery

• Humpback whale, Central North Pacific to humpback whale, Hawai'i and humpback whale, Mexico-North Pacific;

Category II CA Coonstripe Shrimp Pot Fishery

• Humpback whale, CA/OR/WA to humpback whale, Central America/Southern Mexico-CA/OR/WA and humpback whale, Mainland Mexico-CA/OR/WA stock;

Category II CA Spiny Lobster Fishery

• Humpback whale, CA/OR/WA to humpback whale, Central America/Southern Mexico-CA/OR/WA and humpback whale, Mainland Mexico-CA/OR/WA stock;

Category II CA Spot Prawn Pot Fishery

• Humpback whale, CA/OR/WA to humpback whale, Central America/Southern Mexico-CA/OR/WA and humpback whale, Mainland Mexico-CA/OR/WA stock;

Category II CA Dungeness Crab Pot Fishery

• Humpback whale, CA/OR/WA to humpback whale, Central America/Southern Mexico-CA/OR/WA and humpback whale, Mainland Mexico-CA/OR/WA stock;

Category II OR Dungeness Crab Pot Fishery

• Humpback whale, CA/OR/WA to humpback whale, Central America/Southern Mexico-CA/OR/WA and humpback whale, Mainland Mexico-CA/OR/WA stock;

Category II WA/OR/CA Sablefish Pot Fishery

• Humpback whale, CA/OR/WA to humpback whale, Central America/Southern Mexico-CA/OR/WA and humpback whale, Mainland Mexico-CA/OR/WA stock;

Category II WA Coastal Dungeness Crab Pot Fishery

• Humpback whale, CA/OR/WA to humpback whale, Central America/Southern Mexico-CA/OR/WA and humpback whale, Mainland Mexico-CA/OR/WA stock;

Category III AK Cook Inlet Salmon Purse Seine Fishery

• Humpback whale, Central North Pacific to humpback whale, Hawai'i and humpback whale, Mexico-North Pacific;

Category III AK Kodiak Salmon Purse Fishery

• Humpback whale, Central North Pacific to humpback whale, Hawai'i and humpback whale, Mexico-North Pacific;

Category III AK Southeast Salmon Purse Seine Fishery

• Humpback whale, Central North Pacific to humpback whale, Hawai'i and humpback whale, Mexico-North Pacific;

Category III AK Bering Sea, Aleutian Islands Pacific Cod Pot Fishery

• Humpback whale, Central North Pacific to humpback whale, Hawai'i and humpback whale, Mexico-North Pacific;

Category III Southeast Alaska Crab Pot Fishery

• Humpback whale, Central North Pacific to humpback whale, Hawai'i and humpback whale, Mexico-North Pacific;

Category III Southeast Alaska Shrimp Pot Fishery

• Humpback whale, Central North Pacific to humpback whale, Hawai'i and humpback whale, Mexico-North Pacific;

Category III HI Crab Trap Fishery

• Humpback whale, Central North Pacific to humpback whale, Hawai'i, and

Category III AK/WA/OR/CA Commercial Passenger Vessels Fishery; and,

• Humpback whale, Central North Pacific to humpback whale, Hawai'i and humpback whale, Mexico-North Pacific.

Commercial Fisheries in the Atlantic Ocean, Gulf of Mexico, and Caribbean

Classification of Fisheries

NMFS reclassifies the Category III U.S. Mid-Atlantic mixed species stop seine/weir/pound net (except the NC roe mullet stop net) fishery to a Category II fishery. NMFS also adds the fishery to the list of affected fisheries for the Bottlenose Dolphin Take Reduction Plan in table 4.

Addition of Fisheries

NMFS adds the Virginia shrimp trawl fishery as a Category II fishery.

Fishery Name and Organizational Changes and Clarification

NMFS removes the superscript “1” from the WNA stock of long-finned pilot whale to indicate the stock is no longer driving the Category II classification of the Northeast mid-water trawl (including pair trawl) fishery.

NMFS combines the Category II Northeast anchored float gillnet fishery into the Category I Northeast sink gillnet fishery. This change does not affect either fisheries' requirements under the Harbor Porpoise or Atlantic Large Whale TRPs (see table 4).

NMFS revises the fishery descriptions for the Category I Northeast/Mid-Atlantic American lobster trap/pot fishery and Category II Atlantic mixed species trap/pot fishery. NMFS adds Jonah crab as a target species for the Category I Northeast/Mid-Atlantic American lobster trap/pot fishery and removes Jonah crab as a target species from the Category II Atlantic mixed species trap/pot fishery. NMFS also revises the name of the Category I Northeast/Mid-Atlantic American lobster and Jonah crab trap/pot fishery.

Number of Vessels/Persons

NMFS updates the estimated number of vessels/persons in the Atlantic Ocean, Gulf of Mexico, and Caribbean (table 2) as follows:

Category I

• Northeast sink gillnet fishery from 4,072 to 4,924 vessels/persons;

Category II

• NC inshore gillnet fishery from 2,676 to 1,157 vessels/persons; and,

• NC long haul seine fishery from 22 to 10 vessels/persons.

List of Species and/or Stocks Incidentally Killed or Injured in the Atlantic Ocean, Gulf of Mexico, and Caribbean

NMFS corrects an administrative error in table 2. NMFS updates the bottlenose dolphin stock name from FL Bay estuarine to FL Bay in the list of species/stocks incidentally killed or injured in the Category III FL spiny lobster trap/pot fishery.

NMFS adds the WNA stock of harp seal to the list of species/stocks incidentally killed or injured in the Category I mid-Atlantic gillnet fishery.

NMFS adds the WNA stock of white-sided dolphin to the list of species/stocks incidentally killed or injured in the Category II Northeast mid-water trawl (including pair trawl) fishery.

NMFS adds the Biscayne Bay estuarine stock of bottlenose dolphin to the list of species/stocks incidentally killed or injured in the Category II Atlantic blue crab trap/pot fishery.

NMFS adds the Charleston estuarine system stock of bottlenose dolphin to the list of species/stocks incidentally killed or injured in the Category III Atlantic Ocean, Gulf of Mexico, Caribbean commercial passenger fishing vessel fishery.

NMFS removes both the SC/GA coastal and Southern migratory coastal stocks of bottlenose dolphin from the list of species/stocks incidentally killed or injured in the Category II Southeast Atlantic gillnet fishery.

NMFS removes the Charleston estuarine system stock of bottlenose dolphin from the list of species/stocks incidentally killed or injured in the Category II Southeastern U.S. Atlantic, Gulf of Mexico shrimp trawl fishery.

Commercial Fisheries on the High Seas

Fishery Name and Organizational Changes and Clarification

NMFS removes Category II Atlantic Highly Migratory Species trawl fishery from the LOF.

NMFS removes Category II South Pacific tuna fisheries troll fishery from the LOF.

Number of Vessels/Persons

NMFS updates the estimated number of HSFCA permits for high seas fisheries (table 3) as follows:

Category I

• Western Pacific pelagic (HI deep-set component) longline fishery from 150 to 146 HSFCA permits;

Category II

• Pacific highly migratory species drift gillnet fishery from three to two HSFCA permits;

• Western and Central Pacific Ocean tuna purse seine fishery from 34 to 14 HSFCA permits;

• South Pacific albacore troll longline fishery from eight to six HSFCA permits;

• Pacific highly migratory species handline/pole and line fishery from 45 to 36 HSFCA permits;

• South Pacific albacore troll handline/pole and line fishery from seven to one HSFCA permits;

• South Pacific albacore troll fishery from 24 to 23 HSFCA permits;

• Western Pacific pelagic troll fishery from seven to six HSFCA permits;

Category III

• Northwest Atlantic bottom longline fishery from two to one HSFCA permits;

• Pacific highly migratory species longline fishery from 127 to 119 HSFCA permits;

• Pacific highly migratory species purse seine fishery from two to one HSFCA permits;

• Northwest Atlantic trawl fishery from three to one HSFCA permits; and,

• Pacific highly migratory species troll fishery from 93 to 95 HSFCA permits.

List of Species and/or Stocks Incidentally Killed or Injured on the High Seas

NMFS removes the Hawaii stock of striped dolphin from the list of species/stocks incidentally killed or injured in the Category I Western Pacific Pelagic longline fishery (HI deep-set component).

NMFS removes the unknown stock of pygmy killer whale from the list of species/stocks incidentally killed or injured in the Category II Western and Central Pacific Ocean tuna purse seine fishery.

NMFS removes the Hawaii stock of fin whale and Central North Pacific stock of humpback whale from the list of species/stocks incidentally killed or injured in the Category II Western Pacific Pelagic longline fishery (HI shallow-set component).

List of Fisheries

The following tables set forth the list of U.S. commercial fisheries according to their classification under section 118 of the MMPA. Table 1 lists commercial fisheries in the Pacific Ocean (including Alaska), table 2 lists commercial fisheries in the Atlantic Ocean, Gulf of Mexico, and Caribbean, table 3 lists commercial fisheries on the high seas, and table 4 lists fisheries affected by TRPs or TRTs.

In tables 1 and 2, the estimated number of vessels or persons participating in fisheries operating within U.S. waters is expressed in terms of the number of active participants in the fishery, when possible. If this information is not available, the estimated number of vessels or persons licensed for a particular fishery is provided. If no recent information is available on the number of participants, vessels, or persons licensed in a fishery, then the number from the most recent LOF is used for the estimated number of vessels or persons in the fishery. NMFS acknowledges that, in some cases, these estimates may be inflations of actual effort. For example, the State of Hawaii does not issue fishery-specific licenses, and the number of participants reported in the LOF represents the number of commercial marine license holders who reported using a particular fishing gear type/method at least once in a given year, without considering how many times the gear was used. For these fisheries, effort by a single participant is counted the same whether the fisherman used the gear only once or every day. In the Mid-Atlantic and New England fisheries, the numbers represent the potential effort for each fishery, given the multiple gear types for which several state permits may allow. Changes made to Mid-Atlantic and New England fishery participants will not affect observer coverage or bycatch estimates, as observer coverage and bycatch estimates are based on vessel trip reports and landings data. Tables 1 and 2 serve to provide a description of the fishery's potential effort (state and Federal). If NMFS is able to gather more accurate information on the gear types used by state permit holders in the future, the numbers will be updated to reflect this change. For additional information on fishing effort in fisheries found on table 1 or 2, contact the relevant regional office (contact information included above in the section: Where can I find more information about the LOF and the MMAP?).

For high seas fisheries, table 3 lists the number of valid HSFCA permits currently held. Although this likely overestimates the number of active participants in many of these fisheries, the number of valid HSFCA permits is the most reliable data on the potential effort in high seas fisheries at this time. As noted previously, the number of HSFCA permits listed in table 3 for the high seas components of fisheries that also operate within U.S. waters does not necessarily represent additional effort not accounted for in tables 1 and 2. Many vessels holding HSFCA permits also fish within U.S. waters and are included in the number of vessels and participants operating within those fisheries in tables 1 and 2.

Tables 1, 2, and 3 also list the marine mammal species and/or stocks incidentally killed or injured (seriously or non-seriously) in each fishery based on SARs, injury determination reports, bycatch estimation reports, observer data, logbook data, stranding data, disentanglement network data, fishermen self-reports (i.e., MMAP reports), and anecdotal reports. The best available scientific information included in these reports is based on data through 2020. This list includes all species and/or stocks known to be killed or injured in a given fishery, but also includes species and/or stocks for which there are anecdotal records of a mortality or injury. Additionally, species identified by logbook entries, stranding data, or fishermen self-reports (i.e., MMAP reports) may not be verified. In tables 1 and 2, NMFS has designated those species/stocks driving a fishery's classification (i.e., the fishery is classified based on mortalities and serious injuries of a marine mammal stock that are greater than or equal to 50 percent (Category I), or greater than 1 percent and less than 50 percent (Category II), of a stock's PBR) by including a “1” after the stock's name.

In tables 1 and 2, there are several fisheries classified as Category II that have no recent documented mortalities or serious injuries of marine mammals, or fisheries that did not result in a mortality or serious injury rate greater than 1 percent of a stock's PBR level based on known interactions. NMFS has classified these fisheries by analogy to other Category I or II fisheries that use similar fishing techniques or gear that are known to cause mortality or serious injury of marine mammals, as discussed in the final LOF for 1996 (60 FR 67063, December 28, 1995), and according to factors listed in the definition of a “Category II fishery” in 50 CFR 229.2 (i.e., fishing techniques, gear types, methods used to deter marine mammals, target species, seasons and areas fished, qualitative data from logbooks or fishermen reports, stranding data, and the species and distribution of marine mammals in the area). NMFS has designated those fisheries listed by analogy in tables 1 and 2 by adding a “2” after the fishery's name.

There are several fisheries in tables 1, 2, and 3 in which a portion of the fishing vessels cross the Exclusive Economic Zone (EEZ) boundary and therefore operate both within U.S. waters and on the high seas. These fisheries, though listed separately on tables 1, 2, or 3, are considered the same fisheries on either side of the EEZ boundary. NMFS has designated those fisheries in each table with an asterisk (*) after the fisheries' names.

Table 1—List of Fisheries—Commercial Fisheries in the Pacific Ocean
Fishery description | Estimated number of vessels/persons | Marine mammal species and/or stocks incidentally killed or injured
Category I
Longline/Set Line Fisheries:
HI deep-set longline * ^ | 146 | Bottlenose dolphin, HI Pelagic. False killer whale, HI Pelagic.¹ False killer whale, MHI Insular. False killer whale, NWHI. Kogia spp. (Pygmy or dwarf sperm whale), HI. Risso's dolphin, HI. Rough-toothed dolphin, HI. Short-finned pilot whale, HI.
Gillnet Fisheries:
AK Southeast salmon drift gillnet | 474 | Dall's porpoise, AK. Harbor porpoise, northern Southeast Alaska inland waters. Harbor porpoise, southern Southeast Alaska inland waters.¹ Harbor seal, Southeast AK. Humpback whale, Hawai'i. Humpback whale, Mexico-North Pacific Pacific white-sided dolphin, North Pacific. Steller sea lion, Eastern U.S.
Pot, Ring Net, and Trap Fisheries:
CA Dungeness crab pot | 471 | Blue whale, Eastern North Pacific. Gray whale, Eastern North Pacific. Humpback whale, Central America/Southern Mexico-CA/OR/WA.¹ Humpback whale, Mainland Mexico-CA/OR/WA. Killer whale, Eastern North Pacific GOA, BSAI transient. Killer whale, West Coast transient. Northern elephant seal, CA breeding.
Category II
Gillnet Fisheries:
CA thresher shark/swordfish drift gillnet (≥14 in mesh) * | 21 | Bottlenose dolphin, CA/OR/WA offshore. California sea lion, U.S. Dall's porpoise, CA/OR/WA. Gray whale, Eastern North Pacific. Humpback whale, Central America/Southern Mexico-CA/OR/WA. Humpback whale, Mainland Mexico-CA/OR/WA. Long-beaked common dolphin, CA. Minke whale, CA/OR/WA. Northern elephant seal, CA breeding. Northern right-whale dolphin, CA/OR/WA. Pacific white-sided dolphin, CA/OR/WA. Risso's dolphin, CA/OR/WA. Short-beaked common dolphin, CA/OR/WA. Short-finned pilot whale, CA/OR/WA.¹ Sperm Whale, CA/OR/WA.¹
CA halibut/white seabass and other species set gillnet (>3.5 in mesh) | 39 | California sea lion, U.S. Gray whale, Eastern North Pacific. Harbor seal, CA. Humpback whale, Central America/Southern Mexico-CA/OR/WA.¹ Humpback whale, Mainland Mexico-CA/OR/WA. Long-beaked common dolphin, CA. Northern elephant seal, CA breeding. Southern sea otter, CA. Short-beaked common dolphin, CA/OR/WA.
CA yellowtail, barracuda, and white seabass drift gillnet (mesh size ≥3.5 in and <14 in) ² | 20 | California sea lion, U.S. Long-beaked common dolphin, CA. Short-beaked common dolphin, CA/OR/WA.
AK Bristol Bay salmon drift gillnet ² | 1,521 | Beluga whale, Bristol Bay. Gray whale, Eastern North Pacific. Harbor seal, Bristol Bay. Northern fur seal, Eastern Pacific. Pacific white-sided dolphin, North Pacific. Spotted seal, Bering. Steller sea lion, Western U.S.
AK Bristol Bay salmon set gillnet ² | 855 | Beluga whale, Bristol Bay. Gray whale, Eastern North Pacific. Harbor seal, Bristol Bay. Northern fur seal, Eastern Pacific. Spotted seal, Bering.
AK Kodiak salmon set gillnet | 128 | Harbor porpoise, GOA.¹ Harbor seal, GOA. Humpback whale, Hawai'i. Humpback whale, Mexico-North Pacific. Humpback whale, Western North Pacific. Northern sea otter, Southwest AK. Steller sea lion, Western U.S.
AK Cook Inlet salmon set gillnet ² | 479 | Beluga whale, Cook Inlet. Dall's porpoise, AK. Harbor porpoise, GOA. Harbor seal, Cook Inlet/Shelikof Strait. Humpback whale, Hawai'i. Humpback whale, Mexico-North Pacific. Northern sea otter, Southcentral AK. Steller sea lion, Western U.S.
AK Cook Inlet salmon drift gillnet | 355 | Beluga whale, Cook Inlet. Dall's porpoise, AK. Harbor porpoise, GOA.¹ Harbor seal, GOA. Steller sea lion, Western U.S.
AK Peninsula/Aleutian Islands salmon drift gillnet ² | 148 | Dall's porpoise, AK. Harbor porpoise, GOA. Harbor seal, GOA. Northern fur seal, Eastern Pacific.
AK Peninsula/Aleutian Islands salmon set gillnet ² | 75 | Harbor porpoise, Bering Sea. Northern sea otter, Southwest AK. Steller sea lion, Western U.S.
AK Prince William Sound salmon drift gillnet | 483 | Dall's porpoise, AK. Gray whale, Eastern North Pacific. Harbor porpoise, GOA.¹ Harbor seal, Prince William Sound. Humpback whale, Hawai'i. Humpback whale, Mexico-North Pacific. Northern fur seal, Eastern Pacific. Pacific white-sided dolphin, North Pacific. Northern sea otter, Southcentral AK. Steller sea lion, Western U.S.¹
AK Yakutat salmon set gillnet | 95 | Gray whale, Eastern North Pacific. Harbor Porpoise, Yakutat/Southeast Alaska offshore waters.¹ Harbor seal, Southeast AK. Humpback whale, Hawai'i. Humpback whale, Mexico-North Pacific.
WA Puget Sound Region salmon drift gillnet (includes all inland waters south of US-Canada border and eastward of the Bonilla-Tatoosh line—Treaty Indian fishing is excluded) | 136 | Dall's porpoise, CA/OR/WA. Harbor porpoise, inland WA.¹ Harbor seal, WA inland.
Trawl Fisheries:
AK Bering Sea, Aleutian Islands flatfish trawl | 29 | Bearded seal, Beringia. Gray whale, Eastern North Pacific. Harbor porpoise, Bering Sea. Harbor seal, Bristol Bay. Humpback whale, Western North Pacific. Killer whale, Eastern North Pacific Alaska resident.¹ Killer whale, Eastern North Pacific GOA, AI, BS transient.¹ Northern fur seal, Eastern Pacific. Ringed seal, Arctic. Ribbon seal. Spotted seal, Bering. Steller sea lion, Western U.S.¹ Walrus, AK.
AK Bering Sea, Aleutian Islands pollock trawl | 116 | Bearded seal, Beringia. Harbor seal, Bristol Bay. Humpback whale, Hawai'i. Humpback whale, Mexico-North Pacific. Humpback whale, Western North Pacific. Pacific white-sided dolphin, North Pacific. Ribbon seal. Ringed seal, Arctic. Steller sea lion, Western U.S.¹
Pot, Ring Net, and Trap Fisheries:
CA coonstripe shrimp pot | 9 | Gray whale, Eastern North Pacific. Harbor seal, CA. Humpback whale, Central America/Southern Mexico-CA/OR/WA.¹ Humpback whale, Mainland Mexico-CA/OR/WA.
CA spiny lobster | 189 | Bottlenose dolphin, CA/OR/WA offshore. California sea lion, U.S. Humpback whale, Central America/Southern Mexico-CA/OR/WA.¹ Humpback whale, Mainland Mexico-CA/OR/WA. Gray whale, Eastern North Pacific. Southern sea otter, CA.
CA spot prawn pot | 22 | Gray whale, Eastern North Pacific. Humpback whale, Central America/Southern Mexico-CA/OR/WA.¹ Humpback whale, Mainland Mexico-CA/OR/WA. Long-beaked common dolphin, CA.
OR Dungeness crab pot | 323 | Gray whale, Eastern North Pacific. Humpback whale, Central America/Southern Mexico-CA/OR/WA.¹ Humpback whale, Mainland Mexico-CA/OR/WA.
WA/OR/CA sablefish pot | 144 | Humpback whale, Central America/Southern Mexico-CA/OR/WA.¹ Humpback whale, Mainland Mexico-CA/OR/WA.¹
WA coastal Dungeness crab pot | 204 | Gray whale, Eastern North Pacific. Humpback whale, Central America/Southern Mexico-CA/OR/WA.¹ Humpback whale, Mainland Mexico-CA/OR/WA.
Longline/Set Line Fisheries:
AK Gulf of Alaska sablefish longline | 177 | Northern elephant seal, California breeding. Sperm whale, North Pacific.¹ Steller sea lion, Eastern U.S. Steller sea lion, Western U.S.
HI shallow-set longline * ^ | 14 | Bottlenose dolphin, HI Pelagic. False killer whale, HI Pelagic.¹ Guadalupe fur seal. Risso's dolphin, HI. Striped dolphin, HI.
American Samoa longline ² | 11 | False killer whale, American Samoa. Rough-toothed dolphin, American Samoa. Striped dolphin, unknown.
HI shortline ² | 8 | None documented.
Marine Aquaculture Fisheries:
HI offshore pen culture | 1 | Hawaiian monk seal.
Category III
Gillnet Fisheries:
AK Kuskokwim, Yukon, Norton Sound, Kotzebue salmon gillnet | 360 | Harbor porpoise, Bering Sea.
AK Prince William Sound salmon set gillnet | 25 | Harbor seal, GOA. Northern sea otter, Southcentral AK. Steller sea lion, Western U.S.
AK roe herring and food/bait herring gillnet | 15 | None documented.
CA herring set gillnet | 11 | None documented.
HI inshore gillnet | 26 | Bottlenose dolphin, HI. Spinner dolphin, HI.
WA Grays Harbor salmon drift gillnet (excluding treaty Tribal fishing) | 19 | Harbor seal, OR/WA coast.
WA/OR Mainstem Columbia River eulachon gillnet | 10 | None documented.
WA/OR lower Columbia River (includes tributaries) drift net | 244 | California sea lion, U.S. Harbor seal, OR/WA coast.
WA Willapa Bay drift gillnet | 57 | Harbor seal, OR/WA coast. Northern elephant seal, CA breeding.
Miscellaneous Net Fisheries:
AK Cook Inlet salmon purse seine | 16 | Humpback whale, Hawai'i. Humpback whale, Mexico-North Pacific.
AK Kodiak salmon purse seine | 159 | Dall's porpoise, AK. Harbor seal, North Kodiak. Humpback whale, Hawai'i. Humpback whale, Mexico-North Pacific. Humpback whale, Western North Pacific. Steller sea lion, Western U.S.
AK Southeast salmon purse seine | 206 | Humpback whale, Hawai'i. Humpback whale, Mexico-North Pacific.
AK roe herring and food/bait herring purse seine | 31 | None documented.
AK salmon beach seine | 2 | None documented.
AK salmon purse seine (Prince William Sound, Chignik, Alaska Peninsula) | 298 | Harbor seal, GOA. Harbor seal, Prince William Sound.
WA/OR sardine purse seine | 6 | None documented.
CA anchovy, mackerel, sardine purse seine | 53 | California sea lion, U.S. Harbor seal, CA.
CA squid purse seine | 68 | California sea lion, U.S. Long-beaked common dolphin, CA. Risso's dolphin, CA/OR/WA. Short-beaked common dolphin, CA/OR/WA.
CA tuna purse seine * | 14 | None documented.
WA/OR Lower Columbia River salmon seine | 1 | None documented.
WA/OR herring, anchovy, smelt, squid purse seine or lampara | 41 | None documented.
WA salmon seine | 81 | None documented.
WA salmon reef net | 11 | None documented.
HI lift net | 14 | None documented.
HI inshore purse seine | None recorded | None documented.
HI throw net, cast net | 13 | None documented.
HI seine net | 17 | None documented.
Dip Net Fisheries:
CA squid dip net | 19 | None documented.
Marine Aquaculture Fisheries:
CA marine shellfish aquaculture | unknown | None documented.
CA salmon enhancement rearing pen | >1 | None documented.
CA white seabass enhancement net pens | 13 | California sea lion, U.S.
WA salmon net pens | 14 | California sea lion, U.S. Harbor seal, WA inland waters.
WA/OR shellfish aquaculture | 23 | None documented.
Troll Fisheries:
WA/OR/CA albacore surface hook and line/troll | 556 | None documented.
CA halibut, white seabass, and yellowtail hook and line/handline | 388 | None documented.
CA/OR/WA non-albacore HMS hook and line | 124 | None documented.
AK Gulf of Alaska groundfish hand troll and dinglebar troll | 4 | None documented.
AK salmon troll | 850 | Steller sea lion, Eastern U.S. Steller sea lion, Western U.S.
American Samoa tuna troll | 6 | None documented.
CA/OR/WA salmon troll | 1,030 | None documented.
HI troll | 1,124 | Pantropical spotted dolphin, HI.
HI rod and reel | 235 | None documented.
Commonwealth of the Northern Mariana Islands tuna troll | 9 | None documented.
Guam tuna troll | 450 | None documented.
Longline/Set Line Fisheries:
AK Bering Sea, Aleutian Islands Greenland turbot longline | 4 | Killer whale, GOA, AI, BS transient.
AK Bering Sea, Aleutian Islands Pacific cod longline | 26 | Northern fur seal, Eastern Pacific. Steller sea lion, Western U.S.
AK Bering Sea, Aleutian Islands sablefish longline | 8 | None documented.
AK Bering Sea, Aleutian Islands halibut longline | 84 | Northern fur seal, Eastern Pacific. Sperm whale, North Pacific.
AK Gulf of Alaska halibut longline | 689 | Harbor seal, Clarence Strait. Harbor seal, Cook Inlet. Steller sea lion, Eastern U.S.
AK Gulf of Alaska Pacific cod longline | 23 | Harbor seal, Cook Inlet/Shelikof Strait. Steller sea lion, Western U.S.
AK octopus/squid longline | 0 | None documented.
AK state-managed waters longline/setline (including sablefish, rockfish, lingcod, and miscellaneous finfish) | 464 | None documented.
WA/OR/CA groundfish, bottomfish longline/set line | 314 | Bottlenose dolphin, CA/OR/WA offshore. California sea lion, U.S. Northern elephant seal, California breeding. Sperm whale, CA/OR/WA. Steller sea lion, Eastern U.S.
WA/OR/CA Pacific halibut longline | 130 | None documented.
West Coast pelagic longline | 4 | None documented in the most recent 5 years of data.
HI kaka line | 17 | None documented.
HI vertical line | 6 | None documented.
Trawl Fisheries:
AK Bering Sea, Aleutian Islands Atka mackerel trawl | 17 | Harbor seal, Aleutian Islands. Northern elephant seal, California. Steller sea lion, Western U.S.
AK Bering Sea, Aleutian Islands Pacific cod trawl | 64 | Bearded seal, AK. Ribbon seal. Steller sea lion, Western U.S.
AK Bering Sea, Aleutian Islands rockfish trawl | 22 | Harbor seal, Aleutian Islands. Ribbon seal.
AK Gulf of Alaska flatfish trawl | 16 | Harbor seal, Cook Inlet/Shelikof Strait. Harbor seal, North Kodiak. Harbor seal, South Kodiak. Steller sea lion, Western U.S.
AK Gulf of Alaska Pacific cod trawl | 12 | Steller sea lion, Western U.S.
AK Gulf of Alaska pollock trawl | 60 | Steller sea lion, Western U.S.
AK Gulf of Alaska rockfish trawl | 35 | Steller sea lion, Western U.S.
AK Kodiak food/bait herring otter trawl | 0 | None documented.
AK shrimp otter trawl and beam trawl | 12 | None documented.
CA halibut bottom trawl | 23 | California sea lion, U.S. Harbor porpoise, unknown. Harbor seal, unknown. Northern elephant seal, CA breeding. Steller sea lion, unknown.
CA sea cucumber trawl | 11 | California sea lion, U.S.
WA/OR/CA shrimp trawl | 130 | California sea lion, U.S.
WA/OR/CA groundfish trawl | 118 | California sea lion, U.S. Dall's porpoise, CA/OR/WA. Harbor seal, OR/WA coast. Northern elephant seal, CA breeding. Northern fur seal, Eastern Pacific. Northern right whale dolphin, CA/OR/WA. Pacific white-sided dolphin, CA/OR/WA. Steller sea lion, Eastern U.S.
Pot, Ring Net, and Trap Fisheries:
AK Bering Sea, Aleutian Islands Pacific cod pot | 80 | Harbor seal, Bristol Bay. Humpback whale, Hawai'i. Humpback whale, Mexico-North Pacific. Humpback whale, Western North Pacific.
AK Bering Sea, Aleutian Islands sablefish pot | 15 | Sperm whale, North Pacific.
AK Bering Sea, Aleutian Islands crab pot | 73 | Bowhead whale, Western Arctic. Gray whale, Eastern North Pacific.
AK Gulf of Alaska crab pot | 86 | None documented.
AK Gulf of Alaska Pacific cod pot | 48 | None documented in most recent 5 years of data.
AK Gulf of Alaska sablefish pot | 129 | None documented.
AK Southeast Alaska crab pot | 375 | Humpback whale, Hawai'i. Humpback whale, Mexico-North Pacific.
AK Southeast Alaska shrimp pot | 104 | Humpback whale, Hawai'i. Humpback whale, Mexico-North Pacific.
AK shrimp pot, except Southeast | 77 | None documented.
AK octopus/squid pot | 0 | None documented.
CA rock crab pot | 113 | Gray whale, Eastern North Pacific. Harbor seal, CA.
CA Tanner crab pot fishery | 1 | None documented.
WA/OR/CA hagfish pot | 63 | None documented.
WA/OR shrimp pot/trap | 28 | None documented.
WA Puget Sound Dungeness crab pot/trap | 145 | None documented.
HI crab trap | 4 | Humpback whale, Hawai'i.
HI fish trap | 4 | None documented.
HI lobster trap | Less than 3 | None documented in recent years.
HI shrimp trap | 3 | None documented.
HI crab net | 4 | None documented.
HI Kona crab loop net | 13 | None documented.
Hook and Line, Handline, and Jig Fisheries:
AK Bering Sea, Aleutian Islands groundfish jig | 2 | None documented.
AK Gulf of Alaska groundfish jig | 68 | None documented in most recent 5 years of data.
AK halibut jig | 5 | None documented.
American Samoa bottomfish | 44 | None documented.
Commonwealth of the Northern Mariana Islands bottomfish | 7 | None documented.
Guam bottomfish | 63 | None documented.
HI aku boat, pole, and line | None recorded | None documented.
HI bottomfish handline | 392 | None documented in recent years.
HI inshore handline | 158 | None documented.
HI pelagic handline | 271 | None documented.
WA/OR/CA groundfish/finfish hook and line | 689 | California sea lion, U.S. Humpback whale, Central America/Southern Mexico-CA/OR/WA. Humpback whale, Mainland Mexico-CA/OR/WA.
Western Pacific squid jig | 0 | None documented.
Harpoon Fisheries:
CA swordfish harpoon | 21 | None documented.
Pound Net/Weir Fisheries:
AK herring spawn on kelp pound net | 143 | None documented.
AK Southeast herring roe/food/bait pound net | 1 | None documented.
HI bullpen trap | < 3 | None documented.
Bait Pens:
WA/OR/CA bait pens | 13 | California sea lion, U.S.
Dredge Fisheries:
AK scallop dredge | 108 (5 AK) | None documented.
Dive, Hand/Mechanical Collection Fisheries:
AK clam | 57 | None documented.
AK miscellaneous invertebrates handpick | 188 | None documented.
CA/OR/WA dive collection | 186 | None documented.
CA/WA kelp, seaweed, and algae | 4 | None documented.
HI black coral diving | None recorded | None documented.
HI fish pond | None recorded | None documented.
HI handpick | 25 | None documented.
HI lobster diving | 12 | None documented.
HI spearfishing | 67 | None documented.
WA/OR/CA hand/mechanical collection | 320 | None documented.
Commercial Passenger Fishing Vessel (Charter Boat) Fisheries:
AK/WA/OR/CA commercial passenger fishing vessel | >7,000 (1,006 AK) | Humpback whale, Hawai'i. Humpback whale, Mexico-North Pacific. Humpback whale, Western North Pacific. Killer whale, unknown. Steller sea lion, Eastern U.S. Steller sea lion, Western U.S.
Live Finfish/Shellfish Fisheries:
CA nearshore finfish trap | 42 | None documented.
HI aquarium collecting | None recorded | None documented.
List of Abbreviations and Symbols Used in table 1: AI—Aleutian Islands; AK—Alaska; BS—Bering Sea; CA—California; ENP—Eastern North Pacific; GOA—Gulf of Alaska; HI—Hawaii; MHI—Main Hawaiian Islands; OR—Oregon; WA—Washington;
¹ Fishery classified based on mortalities and serious injuries of this stock, which are greater than or equal to 50 percent (Category I) or greater than 1 percent and less than 50 percent (Category II) of the stock's PBR;
² Fishery classified by analogy;
* Fishery has an associated high seas component listed in table 3; and
^ The list of marine mammal species and/or stocks killed or injured in this fishery is identical to the list of species and/or stocks killed or injured in high seas component of the fishery, minus species and/or stocks that have geographic ranges exclusively on the high seas. The species and/or stocks are found, and the fishery remains the same, on both sides of the EEZ boundary. Therefore, the EEZ components of these fisheries pose the same risk to marine mammals as the components operating on the high seas.

Table 2—List of Fisheries—Commercial Fisheries in the Atlantic Ocean, Gulf of Mexico, and Caribbean
Fishery description | Estimated number of vessels/persons | Marine mammal species and/or stocks incidentally killed or injured
Category I
Gillnet Fisheries:
Mid-Atlantic gillnet | 4,020 | Bottlenose dolphin, Northern Migratory coastal. Bottlenose dolphin, Southern Migratory coastal.¹ Bottlenose dolphin, Northern NC estuarine system.¹ Bottlenose dolphin, Southern NC estuarine system.¹ Bottlenose dolphin, WNA offshore. Common dolphin, WNA. Gray seal, WNA. Harbor porpoise, GME/BF. Harbor seal, WNA. Harp seal, WNA. Hooded seal, WNA. Humpback whale, Gulf of Maine. Minke whale, Canadian east coast.
Northeast sink gillnet | 4,924 | Bottlenose dolphin, Northern Migratory coastal. Bottlenose dolphin, WNA offshore. Common dolphin, WNA. Fin whale, WNA. Gray seal, WNA.¹ Harbor porpoise, GME/BF. Harbor seal, WNA. Harp seal, WNA. Humpback whale, Gulf of Maine. Minke whale, Canadian east coast. North Atlantic right whale, WNA. Risso's dolphin, WNA. White-sided dolphin, WNA.
Trap/Pot Fisheries:
Northeast/Mid-Atlantic American lobster and Jonah crab trap/pot | 8,485 | Humpback whale, Gulf of Maine. Minke whale, Canadian east coast. North Atlantic right whale, WNA.¹
Longline Fisheries:
Atlantic Ocean, Caribbean, Gulf of Mexico large pelagics longline * | 201 | Atlantic spotted dolphin, Northern GMX. Bottlenose dolphin, Northern GMX oceanic. Bottlenose dolphin, WNA offshore. Common dolphin, WNA. Cuvier's beaked whale, WNA. False killer whale, WNA. Harbor porpoise, GME, BF. Kogia spp. (Pygmy or dwarf sperm whale), WNA. Long-finned pilot whale, WNA. Mesoplodon beaked whale, WNA. Minke whale, Canadian East coast. Pantropical spotted dolphin, Northern GMX. Pygmy sperm whale, GMX. Risso's dolphin, Northern GMX. Risso's dolphin, WNA. Rough-toothed dolphin, Northern GMX. Short-finned pilot whale, Northern GMX. Short-finned pilot whale, WNA.¹ Sperm whale, Northern GMX.
Category II
Gillnet Fisheries:
Chesapeake Bay inshore gillnet ² | 265 | Bottlenose dolphin, unknown (Northern migratory coastal or Southern migratory coastal).
Gulf of Mexico gillnet ² | 248 | Bottlenose dolphin, Eastern GMX coastal. Bottlenose dolphin, GMX bay, sound, and estuarine. Bottlenose dolphin, Mobile Bay, Bonsecour Bay. Bottlenose dolphin, MS Sound, Lake Borgne, Bay Boudreau. Bottlenose dolphin, Northern GMX coastal. Bottlenose dolphin, Western GMX coastal.
NC inshore gillnet | 1,157 | Bottlenose dolphin, Northern NC estuarine system.¹ Bottlenose dolphin, Southern NC estuarine system.¹
Northeast drift gillnet ² | 1,036 | None documented.
Southeast Atlantic gillnet ² | 273 | Bottlenose dolphin, Central FL coastal. Bottlenose dolphin, Northern FL coastal.
Southeastern U.S. Atlantic shark gillnet | 21 | Bottlenose dolphin, unknown (Central FL, Northern FL, SC/GA coastal, or Southern migratory coastal). North Atlantic right whale, WNA.
Trawl Fisheries:
Mid-Atlantic mid-water trawl (including pair trawl) | 320 | Bottlenose dolphin, WNA offshore. Harbor seal, WNA.
Mid-Atlantic bottom trawl | 633 | Bottlenose dolphin, WNA offshore.¹ Common dolphin, WNA.¹ Gray seal, WNA.¹ Harbor seal, WNA. Risso's dolphin, WNA.¹ White-sided dolphin, WNA.
Northeast mid-water trawl (including pair trawl) | 542 | Common dolphin, WNA. Gray seal, WNA. Harbor seal, WNA. Long-finned pilot whale, WNA. White-sided dolphin, WNA.
Northeast bottom trawl | 968 | Bottlenose dolphin, WNA offshore.¹ Common dolphin, WNA. Gray seal, WNA.¹ Harbor porpoise, GME/BF. Harbor seal, WNA. Harp seal, WNA. Long-finned pilot whale, WNA.¹ Risso's dolphin, WNA.¹ White-sided dolphin, WNA.¹
Southeastern U.S. Atlantic, Gulf of Mexico shrimp trawl | 10,824 | Atlantic spotted dolphin, Northern Gulf of Mexico. Bottlenose dolphin, Barataria Bay Estuarine System. Bottlenose dolphin, Eastern GMX coastal.¹ Bottlenose dolphin, GMX bay, sound, estuarine.¹ Bottlenose dolphin, GMX continental shelf. Bottlenose dolphin, Mississippi River Delta. Bottlenose dolphin, Mobile Bay, Bonsecour Bay. Bottlenose dolphin, Northern GMX coastal.¹ Bottlenose dolphin, Pensacola Bay, East Bay. Bottlenose dolphin, Perdido Bay. Bottlenose dolphin, SC/GA coastal.¹ Bottlenose dolphin, Southern migratory coastal. Bottlenose dolphin, Western GMX coastal.¹
Virginia shrimp trawl | 12 | None documented.
Trap/Pot Fisheries:
MA mixed species trap/pot | 1,240 | None documented.
Southeastern U.S. Atlantic, Gulf of Mexico stone crab trap/pot ² | 1,101 | Bottlenose dolphin, Biscayne Bay estuarine. Bottlenose dolphin, Central FL coastal. Bottlenose dolphin, Eastern GMX coastal. Bottlenose dolphin, FL Bay. Bottlenose dolphin, GMX bay, sound, estuarine (FL west coast portion). Bottlenose dolphin, Indian River Lagoon estuarine system. Bottlenose dolphin, Jacksonville estuarine system. Bottlenose dolphin, Sarasota Bay, Little Sarasota Bay.
Atlantic mixed species trap/pot ² | 3,493 | Fin whale, WNA. Humpback whale, Gulf of Maine.
Atlantic blue crab trap/pot | 6,679 | Bottlenose dolphin, Biscayne Bay estuarine. Bottlenose dolphin, Central FL coastal. Bottlenose dolphin, Central GA estuarine system.¹ Bottlenose dolphin, Charleston estuarine system.¹ Bottlenose dolphin, Indian River Lagoon estuarine system. Bottlenose dolphin, Jacksonville estuarine system. Bottlenose dolphin, Northern FL coastal.¹ Bottlenose dolphin, Northern GA/Southern SC estuarine system. Bottlenose dolphin, Northern Migratory coastal. Bottlenose dolphin, Northern NC estuarine system.¹ Bottlenose dolphin, Northern SC estuarine system. Bottlenose dolphin, SC/GA coastal. Bottlenose dolphin, Southern GA estuarine system. Bottlenose dolphin, Southern Migratory coastal.¹ Bottlenose dolphin, Southern NC estuarine system. West Indian manatee, FL.
Purse Seine Fisheries:
Gulf of Mexico menhaden purse seine | 40-42 | Bottlenose dolphin, GMX bay, sound, estuarine. Bottlenose dolphin, Mississippi River Delta. Bottlenose dolphin, Mississippi Sound, Lake Borgne, Bay Boudreau. Bottlenose dolphin, Northern GMX coastal.¹ Bottlenose dolphin, Western GMX coastal.¹
Mid-Atlantic menhaden purse seine ² | 17 | Bottlenose dolphin, Northern Migratory coastal. Bottlenose dolphin, Southern Migratory coastal.
Haul/Beach Seine Fisheries:
Mid-Atlantic haul/beach seine | 359 | Bottlenose dolphin, Northern Migratory coastal.¹ Bottlenose dolphin, Northern NC estuarine system.¹ Bottlenose dolphin, Southern Migratory coastal.¹
NC long haul seine | 10 | Bottlenose dolphin, Northern NC estuarine system.¹ Bottlenose dolphin, Southern NC estuarine system.
Stop Seine/Weir/Pound Net:
U.S. Mid-Atlantic mixed species stop seine/weir/pound net (except the NC roe mullet stop net) | unknown | Bottlenose dolphin, Northern NC estuarine system.
Stop Net Fisheries:
NC roe mullet stop net | 1 | Bottlenose dolphin, Northern NC estuarine system. Bottlenose dolphin, unknown (Southern migratory coastal or Southern NC estuarine system).
Pound Net Fisheries:
VA pound net | 20 | Bottlenose dolphin, Northern migratory coastal. Bottlenose dolphin, Northern NC estuarine system. Bottlenose dolphin, Southern Migratory coastal.¹
Category III
Gillnet Fisheries:
Caribbean gillnet | 127 | None documented in the most recent 5 years of data.
DE River inshore gillnet | unknown | None documented in the most recent 5 years of data.
Long Island Sound inshore gillnet | unknown | None documented in the most recent 5 years of data.
RI, southern MA (to Monomoy Island), and NY Bight (Raritan and Lower NY Bays) inshore gillnet | unknown | None documented in the most recent 5 years of data.
Southeast Atlantic inshore gillnet | unknown | Bottlenose dolphin, Northern SC estuarine system.
Trawl Fisheries:
Atlantic shellfish bottom trawl | >58 | None documented.
Gulf of Mexico butterfish trawl | 2 | Bottlenose dolphin, Northern GMX oceanic. Bottlenose dolphin, Northern GMX continental shelf.
Gulf of Mexico mixed species trawl | 20 | None documented.
GA cannonball jellyfish trawl | 1 | Bottlenose dolphin, SC/GA coastal.
Marine Aquaculture Fisheries:
Finfish aquaculture | 48 | Harbor seal, WNA.
Shellfish aquaculture | unknown | None documented.
Purse Seine Fisheries:
Gulf of Maine Atlantic herring purse seine | >7 | Harbor seal, WNA.
Gulf of Maine menhaden purse seine | >2 | None documented.
FL West Coast sardine purse seine | 10 | None documented.
Longline/Hook and Line Fisheries:
Northeast/Mid-Atlantic bottom longline/hook-and-line | >1,207 | None documented.
Gulf of Maine, U.S. Mid-Atlantic tuna, shark, swordfish hook-and-line/harpoon | 2,846 | Humpback whale, Gulf of Maine.
Southeastern U.S. Atlantic, Gulf of Mexico, and Caribbean snapper-grouper and other reef fish bottom longline/hook-and-line | >5,000 | Bottlenose dolphin, GMX continental shelf.
Southeastern U.S. Atlantic, Gulf of Mexico shark bottom longline/hook-and-line | 39 | Bottlenose dolphin, Eastern GMX coastal. Bottlenose dolphin, Northern GMX continental shelf.
Southeastern U.S. Atlantic, Gulf of Mexico, and Caribbean pelagic hook-and-line/harpoon | 680 | None documented.
U.S. Atlantic, Gulf of Mexico trotline | unknown | Bottlenose dolphin, Galveston Bay, East Bay, Trinity Bay.
Trap/Pot Fisheries:
Caribbean mixed species trap/pot | 154 | Bottlenose dolphin, Puerto Rico and United States Virgin Islands.
Caribbean spiny lobster trap/pot | 40 | None documented.
FL spiny lobster trap/pot | 1,268 | Bottlenose dolphin, Biscayne Bay estuarine. Bottlenose dolphin, Central FL coastal. Bottlenose dolphin, Eastern GMX coastal. Bottlenose dolphin, FL Bay. Bottlenose dolphin, FL Keys.
Gulf of Mexico blue crab trap/pot | 4,113 | Bottlenose dolphin, Barataria Bay. Bottlenose dolphin, Caloosahatchee River. Bottlenose dolphin, Eastern GMX coastal. Bottlenose dolphin, GMX bay, sound, estuarine. Bottlenose dolphin, Mississippi Sound, Lake Borgne, Bay Boudreau. Bottlenose dolphin, Mobile Bay, Bonsecour Bay. Bottlenose dolphin, Northern GMX coastal. Bottlenose dolphin, Waccasassa Bay, Withlacoochee Bay, Crystal Bay. Bottlenose dolphin, Western GMX coastal. West Indian manatee, FL.
Gulf of Mexico mixed species trap/pot | unknown | None documented.
Southeastern U.S. Atlantic, Gulf of Mexico golden crab trap/pot | 10 | None documented.
U.S. Mid-Atlantic eel trap/pot | unknown | None documented.
Stop Seine/Weir/Pound Net/Floating Trap/Fyke Net Fisheries:
Gulf of Maine herring and Atlantic mackerel stop seine/weir | >1 | Harbor porpoise, GME/BF. Harbor seal, WNA. Minke whale, Canadian east coast. Atlantic white-sided dolphin, WNA.
U.S. Mid-Atlantic crab stop seine/weir | 2,600 | None documented.
RI floating trap | 9 | None documented.
Northeast and Mid-Atlantic fyke net | unknown | None documented.
Dredge Fisheries:
Gulf of Maine sea urchin dredge | unknown | None documented.
Gulf of Maine mussel dredge | unknown | None documented.
Gulf of Maine, U.S. Mid-Atlantic sea scallop dredge | >403 | None documented.
Mid-Atlantic blue crab dredge | unknown | None documented.
Mid-Atlantic soft-shell clam dredge | unknown | None documented.
Mid-Atlantic whelk dredge | unknown | None documented.
U.S. Mid-Atlantic/Gulf of Mexico oyster dredge | 7,000 | None documented.
New England and Mid-Atlantic offshore surf clam/quahog dredge | unknown | None documented.
Haul/Beach Seine Fisheries:
Caribbean haul/beach seine | 38 | West Indian manatee, Puerto Rico.
Gulf of Mexico haul/beach seine | unknown | None documented.
Southeastern U.S. Atlantic haul/beach seine | 25 | None documented.
Dive, Hand/Mechanical Collection Fisheries:
Atlantic Ocean, Gulf of Mexico, Caribbean shellfish dive, hand/mechanical collection | 20,000 | None documented.
Gulf of Maine urchin dive, hand/mechanical collection | unknown | None documented.
Gulf of Mexico, Southeast Atlantic, Mid-Atlantic, and Caribbean cast net | unknown | None documented.
Commercial Passenger Fishing Vessel (Charter Boat) Fisheries:
Atlantic Ocean, Gulf of Mexico, Caribbean commercial passenger fishing vessel | 4,000 | Bottlenose dolphin, Barataria Bay estuarine system. Bottlenose dolphin, Biscayne Bay estuarine. Bottlenose dolphin, Central FL coastal. Bottlenose dolphin, Charleston estuarine system. Bottlenose dolphin, Choctawhatchee Bay. Bottlenose dolphin, Eastern GMX coastal. Bottlenose dolphin, FL Bay. Bottlenose dolphin, GMX bay, sound, estuarine. Bottlenose dolphin, Indian River Lagoon estuarine system. Bottlenose dolphin, Jacksonville estuarine system. Bottlenose dolphin, Mississippi Sound, Lake Borgne, Bay Boudreau. Bottlenose dolphin, Northern FL coastal. Bottlenose dolphin, Northern GA/Southern SC estuarine. Bottlenose dolphin, Northern GMX coastal. Bottlenose dolphin, Northern migratory coastal. Bottlenose dolphin, Northern NC estuarine. Bottlenose dolphin, Southern migratory coastal. Bottlenose dolphin, Southern NC estuarine system. Bottlenose dolphin, SC/GA coastal. Bottlenose dolphin, Western GMX coastal. Short-finned pilot whale, WNA.
List of Abbreviations and Symbols Used in table 2: DE—Delaware; FL—Florida; GA—Georgia; GME/BF—Gulf of Maine/Bay of Fundy; GMX—Gulf of Mexico; MA—Massachusetts; NC—North Carolina; NY—New York; RI—Rhode Island; SC—South Carolina; VA—Virginia; WNA—Western North Atlantic;
¹ Fishery classified based on mortalities and serious injuries of this stock, which are greater than or equal to 50 percent (Category I) or greater than 1 percent and less than 50 percent (Category II) of the stock's PBR;
² Fishery classified by analogy; and
* Fishery has an associated high seas component listed in table 3.

Table 3—List of Fisheries—Commercial Fisheries on the High Seas
Fishery description | Number of HSFC permits | Marine mammal species and/or stocks incidentally killed or injured
Category I
Longline Fisheries:
Atlantic Highly Migratory Species * | 30 | Atlantic spotted dolphin, WNA. Bottlenose dolphin, Northern GMX oceanic. Bottlenose dolphin, WNA offshore. Common dolphin, WNA. Cuvier's beaked whale, WNA. False killer whale, WNA. Killer whale, GMX oceanic. Kogia spp. whale (Pygmy or dwarf sperm whale), WNA. Long-finned pilot whale, WNA. Mesoplodon beaked whale, WNA. Minke whale, Canadian East coast. Pantropical spotted dolphin, WNA. Risso's dolphin, GMX. Risso's dolphin, WNA. Short-finned pilot whale, WNA.
Western Pacific Pelagic (HI Deep-set component) * ^ | 146 | Bottlenose dolphin, HI Pelagic. False killer whale, HI Pelagic. Kogia spp. (Pygmy or dwarf sperm whale), HI. Risso's dolphin, HI. Rough-toothed dolphin, HI. Short-finned pilot whale, HI.
Category II
Drift Gillnet Fisheries:
Pacific Highly Migratory Species * ^ | 2 | Long-beaked common dolphin, CA. Humpback whale, CA/OR/WA. Northern right-whale dolphin, CA/OR/WA. Pacific white-sided dolphin, CA/OR/WA. Risso's dolphin, CA/OR/WA. Short-beaked common dolphin, CA/OR/WA.
Trawl Fisheries:
CCAMLR | 0 | Antarctic fur seal.
Purse Seine Fisheries:
Western and Central Pacific Ocean Tuna Purse Seine | 14 | Bottlenose dolphin, unknown. Blue whale, unknown. Bryde's whale, unknown. False killer whale, unknown. Fin whale, unknown. Indo-Pacific dolphin. Long-beaked common dolphin, unknown. Melon-headed whale, unknown. Minke whale, unknown. Pantropical spotted dolphin, unknown. Risso's dolphin, unknown. Rough-toothed dolphin, unknown. Sei whale, unknown. Short-finned pilot whale, unknown. Sperm whale, unknown. Spinner dolphin, unknown.
Western Pacific Pelagic | 0 | No information.
Longline Fisheries:
CCAMLR | 0 | None documented.
South Pacific Albacore Troll | 6 | No information.
Western Pacific Pelagic (HI Shallow-set component) * ^ | 14 | Bottlenose dolphin, HI Pelagic. False killer whale, HI Pelagic. Guadalupe fur seal. Risso's dolphin, HI. Striped dolphin, HI.
Handline/Pole and Line Fisheries:
Atlantic Highly Migratory Species | 0 | No information.
Pacific Highly Migratory Species | 36 | No information.
South Pacific Albacore Troll | 1 | No information.
Western Pacific Pelagic | 1 | No information.
Troll Fisheries:
Atlantic Highly Migratory Species | 0 | No information.
South Pacific Albacore Troll | 23 | No information.
Western Pacific Pelagic | 6 | No information.
Category III
Longline Fisheries:
Northwest Atlantic Bottom Longline | 1 | None documented.
Pacific Highly Migratory Species | 119 | None documented in the most recent 5 years of data.
Purse Seine Fisheries:
Pacific Highly Migratory Species * ^ | 1 | None documented.
Trawl Fisheries:
Northwest Atlantic | 1 | None documented.
Troll Fisheries:
Pacific Highly Migratory Species * | 95 | None documented.
List of Terms, Abbreviations, and Symbols Used in table 3: CA—California; GMX—Gulf of Mexico; HI—Hawaii; OR—Oregon; WA—Washington; WNA—Western North Atlantic;
* Fishery is an extension/component of an existing fishery operating within U.S. waters listed in table 1 or 2. The number of permits listed in table 3 represents only the number of permits for the high seas component of the fishery; and
^ The list of marine mammal species and/or stocks killed or injured in this fishery is identical to the list of marine mammal species and/or stocks killed or injured in U.S. waters component of the fishery, minus species and/or stocks that have geographic ranges exclusively in coastal waters, because the marine mammal species and/or stocks are also found on the high seas and the fishery remains the same on both sides of the EEZ boundary. Therefore, the high seas components of these fisheries pose the same risk to marine mammals as the components of these fisheries operating in U.S. waters.

Table 4—Fisheries Affected by Take Reduction Teams and Plans
Take reduction plans | Affected fisheries
Atlantic Large Whale Take Reduction Plan (ALWTRP)—50 CFR 229.32 | Category I: Mid-Atlantic gillnet. Northeast/Mid-Atlantic American lobster and Jonah crab trap/pot. Northeast sink gillnet.
| Category II: Atlantic blue crab trap/pot. Atlantic mixed species trap/pot. MA mixed species trap/pot. Northeast drift gillnet. Southeast Atlantic gillnet. Southeastern U.S. Atlantic shark gillnet.* Southeastern, U.S. Atlantic, Gulf of Mexico stone crab trap/pot.^
Bottlenose Dolphin Take Reduction Plan (BDTRP)—50 CFR 229.35 | Category I: Mid-Atlantic gillnet.
| Category II: Atlantic blue crab trap/pot. Chesapeake Bay inshore gillnet fishery. Mid-Atlantic haul/beach seine. Mid-Atlantic menhaden purse seine. NC inshore gillnet. NC long haul seine. NC roe mullet stop net. Southeast Atlantic gillnet. Southeastern U.S. Atlantic shark gillnet. Southeastern U.S. Atlantic, Gulf of Mexico shrimp trawl.^ Southeastern, U.S. Atlantic, Gulf of Mexico stone crab trap/pot.^ U.S. Mid-Atlantic mixed species stop seine/weir/pound net (except the NC roe mullet stop net). VA pound net.
False Killer Whale Take Reduction Plan (FKWTRP)—50 CFR 229.37 | Category I: HI deep-set longline. Category II: HI shallow-set longline.
Harbor Porpoise Take Reduction Plan (HPTRP)—50 CFR 229.33 (New England) and 229.34 (Mid-Atlantic) | Category I: Mid-Atlantic gillnet. Northeast sink gillnet.
Pelagic Longline Take Reduction Plan (PLTRP)—50 CFR 229.36 | Category I: Atlantic Ocean, Caribbean, Gulf of Mexico large pelagics longline.
Pacific Offshore Cetacean Take Reduction Plan (POCTRP)—50 CFR 229.31 | Category II: CA thresher shark/swordfish drift gillnet (≥14 in mesh).
Atlantic Trawl Gear Take Reduction Team (ATGTRT) | Category II: Mid-Atlantic bottom trawl. Mid-Atlantic mid-water trawl (including pair trawl). Northeast bottom trawl. Northeast mid-water trawl (including pair trawl).
List of Symbols Used in table 4:
* Only applicable to the portion of the fishery operating in U.S. waters; and
^ Only applicable to the portion of the fishery operating in the Atlantic Ocean

Classification

The Chief Counsel for Regulation of the Department of Commerce certified to the Chief Counsel for Advocacy of the Small Business Administration (SBA) at the proposed rule stage that this rule would not have a significant economic impact on a substantial number of small entities. No comments were received on that certification, and no new information has been discovered to change that conclusion. Accordingly, no regulatory flexibility analysis is required, and none has been prepared.

This rule contains existing collection-of-information (COI) requirements subject to the Paperwork Reduction Act but would not impose additional or new COI requirements. The COI for the registration of individuals under the MMPA has been approved by the Office of Management and Budget (OMB) under OMB Control Number 0648-0293 (0.15 hours per report for new registrants). The requirement for reporting marine mammal mortalities or injuries has been approved by OMB under OMB Control Number 0648-0292 (0.15 hours per report). These estimates include the time for reviewing instructions, searching existing data sources, gathering and maintaining the data needed, and completing and reviewing the COI. Send comments regarding these reporting burden estimates or any other aspect of the COI, including suggestions for reducing burden, to NMFS (see ADDRESSES). You may also submit comments on these or any other aspects of the collection of information at https://www.reginfo.gov/public/do/PRAMain.

Notwithstanding any other provision of law, no person is required to respond to, nor shall a person be subject to a penalty for failure to comply with, a COI, subject to the requirements of the Paperwork Reduction Act, unless that COI displays a currently valid OMB control number.

This rule has been determined to be not significant for the purposes of Executive Orders 12866 and 13563.

In accordance with the Companion Manual for NOAA Administrative Order (NAO) 216-6A, NMFS determined that the publication of this LOF qualifies to be categorically excluded from further NEPA review, consistent with categories of activities identified in Categorical Exclusion G7 (“Preparation of policy directives, rules, regulations, and guidelines of an administrative, financial, legal, technical, or procedural nature, or for which the environmental effects are too broad, speculative or conjectural to lend themselves to meaningful analysis and will be subject later to the NEPA process, either collectively or on a case-by-case basis”) of the Companion Manual and we have not identified any extraordinary circumstances listed in Chapter 4 of the Companion Manual for NAO 216-6A that would preclude application of this categorical exclusion. If NMFS takes a management action, for example, through the development of a TRP, NMFS would first prepare an Environmental Impact Statement or Environmental Assessment, as required under NEPA, specific to that action.

This rule would not affect species listed as threatened or endangered under the ESA or their associated critical habitat. The impacts of numerous fisheries have been analyzed in various biological opinions, and this rule will not affect the conclusions of those opinions. The classification of fisheries on the LOF is not considered to be a management action that would adversely affect threatened or endangered species. If NMFS takes a management action, for example, through the development of a TRP, NMFS would consult under ESA section 7 on that action.

This rule would have no adverse impacts on marine mammals and may have a positive impact on marine mammals by improving knowledge of marine mammals and the fisheries interacting with marine mammals through information collected from observer programs, stranding and sighting data, or take reduction teams.

This rule would not affect the land or water uses or natural resources of the coastal zone, as specified under section 307 of the Coastal Zone Management Act.

References

Baird, R.W., S.D. Mahaffy, A.M. Gorgone, T. Cullins, D.J. McSweeney, E.M. Oelson, A.L. Bradford, J. Barlow, D.L. Webster. 2014. False Killer Whales and Fisheries Interaction in Hawaiian Waters: Evidence for Sex Bias and Variation Among Populations and Social Groups. Marine Mammal Science 31(2): 579-590.

Bradford, A.L., E.M. Oleson, R.W. Baird, C.H. Boggs, K.A. Forney, and N.C. Young. 2015. Revised stock boundaries for false killer whales (Pseudorca crassidens) in Hawaiian waters. U.S. Department. Commerce, NOAA Technical Memorandum. NOAA-NMFS-PIFSC-47, 29p.

Carretta, J.W., E.M. Oleson, K.A. Forney, M.M. Muto, D.W. Weller, A.R. Lang, J. Baker, B. Hanson, A.J. Orr, J. Barlow, J.E. Moore, and R.L. Brownell. 2023. U.S. Pacific Marine Mammal Stock Assessments: 2022. U.S. Department of Commerce. NOAA Technical Memorandum NMFS-SWFSC-684. 409 p.

Carretta, J.W., J. Greenman, K. Wilkinson, L. Saez, D. Lawson and J. Viezbicke. 2023a. Sources of Human-Related Injury and Mortality for U.S. Pacific West coast Marine Mammal Stock Assessments, 2017-2021. U.S. Department of Commerce. NOAA Technical Memorandum NMFS-SWFSC-690. 225 p.

Carretta, J.W., E.M. Oleson, K.A. Forney, M.M. Muto, D.W. Weller, A.R. Lang, J. Baker, B. Hanson, A.J. Orr, J. Barlow, J.E. Moore, and R.L. Brownell. 2022. U.S. Pacific Marine Mammal Stock Assessments: 2021. U.S. Department of Commerce, NOAA Technical Memorandum NMFS-SWFSC-663. 395 p.

Young, N.C, M.M. Muto, V.T. Helker, B.J. Delean, N.C. Young, J.C. Freed R.P. Angliss, N.A. Friday, P.L. Boveng, J.M. Breiwick, B.M. Brost, M.F. Cameron, P.J. Clapham, J.L. Crance, S.P. Dahle, M.E. Dahlheim, B.S. Fadely, M.C. Ferguson, L.W. Fritz, K.T. Goetz, R.C. Hobbs, Y.V. Ivashchenko, A.S. Kennedy, J.M. London, S.A. Mizroch, R.R. Ream, E.L. Richmond, K.E.W. Shelden, K.L. Sweeney, R.G. Towell, P.R. Wade, J.M. Waite, and Alexandre N. Zerbini. 2023. Alaska Marine Mammal Stock Assessments 2022. U.S. Department of Commerce. NOAA Technical Memorandum NMFS-AFSC-474, 316 p.

Dated: February 9, 2024.
Samuel D. Rauch, III,
Deputy Assistant Administrator for Regulatory Programs, National Marine Fisheries Service.

[FR Doc. 2024-03013 Filed 2-15-24; 8:45 am]

BILLING CODE 3510-22-P